ENVIRONMENTAL PROTECTION AGENCY

[FRL-6924-7]

Federal Agency Hazardous Waste Compliance Docket

AGENCY: Environmental Protection Agency.

ACTION: Notice of thirteenth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this thirteenth update of the docket and includes facilities not previously listed on the docket and reported to EPA since the last update of the docket, 65 FR 36994, June 12, 2000, which was current as of December 1, 1999. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains 27 additions and 6 deletions since the previous update, as well as numerous other corrections to the docket list. At the time of publication of this notice, the new total number of Federal facilities listed on the docket is 2,232.

DATES: This list is current as of August 28, 2000.

FOR FURTHER INFORMATION CONTACT: Electronic versions of the docket may be obtained at http://www.epa.gov/oeca/fedfac/oversight/oversight.html.

SUPPLEMENTARY INFORMATION:

Table of Contents

1.0 Introduction

2.0 Revisions of the Previous Docket

3.0 Process for Compiling the Updated Docket

4.0 Facilities Not Included

5.0 Information Contained on Docket Listing

6.0 Facility Status Reporting

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); and June 12, 2000 (65 FR 36994). This notice constitutes the thirteenth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Milla(á)n-Ramos (HBS), US EPA Region 1, #1 Congress St., Suite 1100, Boston, MA 02114-2023, (617) 918-1377

Helen Shannon (ERRD), US EPA Region 2, 290 Broadway, 18th Floor, New York, NY 10007-1866, (212) 637-4260

Alida Karas (ERRD), US EPA Region 2, 290 Broadway, New York, NY 10007-1866, (212) 637-4276

Todd Richardson (3HS50), US EPA Region 3, 841 Chestnut Bg., Philadelphia, PA 19107, (215) 814-5264

Ann Cole (4WD-FFB), US EPA Region 4, 61, Forsyth St., SW, Atlanta, GA 30303, (404) 562-9638

Alan Gebien (SE-5J), US EPA Region 5, 77 W. Jackson Blvd., Chicago, IL 60604, (312) 886-1304

Philip Ofosu (6SF-RA), US EPA Region 6, 1445 Ross Avenue, Dallas, TX 75202-2733, (214) 665-3178

D. Karla Asberry (FFSC), US EPA Region 7, 726 Minnesota Avenue, Kansas City, KS 66101, (913) 551-7595

Stan Zawistowski (EPR-F), US EPA Region 8, 999 18th Street, Suite 500, Denver, CO 80202-2466, (303) 312-6255

Avonda D. East (SFD-8), US EPA Region 9, 75 Hawthorne Street, San Francisco, CA 94105, (415) 744-2468

Mark Ader (ECL-115), US EPA Region 10, SW 1200 Sixth Avenue, Seattle, WA 98101 (206) 553-1808

Monica Lindeman (ECL, SACU2), US EPA Region 10, 1200 Sixth Avenue, Seattle, WA 98101 (206) 553-5113.

2.0 Revisions of the Previous Docket

Following is a discussion of the revisions of the previous docket, including additions, deletions, and corrections.

2.1 Additions

Today, 27 facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the 27 facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs, but that have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DOD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

Deletions

Today, 6 facilities are being deleted from the docket for various reasons, such as incorrect reporting of hazardous waste activity, change in ownership, and exemption as an SQG under RCRA (40 Code of Federal Regulations [CFR] Part 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRIS), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Federal Agency Hazardous Waste Compliance Docket Coordinator, Federal Facilities Enforcement Office (Mail Code 2261A), U.S. Environmental Protection Agency, 401 M Street, SW., Washington, DC 20460.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this thirteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the list of facilities classified as no further remedial action planned (NFRAP) are not being published today. However, the lists are available to interested parties and can be obtained by calling the HQ Docket Coordinator at (202) 564-2468. As of today, the total number of Federal facilities that appear on the docket is 2,232.

6.0 Facility Status Reporting

In response to numerous requests from Federal agencies, EPA has expanded the docket database to include information on the NFRAP status of facilities listed. A prevalent concern has been the inability to identify facilities that, after submitting all necessary site assessment information, were found to warrant no further involvement on the part of EPA at the time. Accordingly, EPA has expanded the docket database to include a column indicating the facility's status.

The status codes are:

U=Undetermined

N=No further remedial action planned (NFRAP)

P=Currently proposed for the NPL

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, a list of all facilities having NFRAP status (those for which an “N” appears in the status field) was generated; the list is being published today.

Important limitations apply to the list of facilities that have NFRAP status. First, the information is accurate only as of November 2, 2000. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed, and a new list of facilities classified as NFRAP will be published at each docket update.

Dated: December 21, 2000.
Craig E. Hooks,
Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Must Submit PA)

(22) Changing Responsible Federal Agency and Facility Name (New Responsible Must Submit PA)

(23) New Reporting Mechanism Added at Update

(24) Reporting Mechanism Determined to Be Not Applicable After Review of Regional Files

Note: Further information on definitions of categories can be obtained by calling the HQ Docket Coordinator at (202) 564-2468.

Federal Agency Hazardous Waste Compliance Docket Update #13 Additions
Facility name | Facility address | City | State | Zip code | Agency | Reporting mechanism | Addition code
AFSC—BUCKLEY EAST 6TH AVE SITE | BUCKLEY AFB | AURORA | CO | 80011 | AIR FORCE | 103c | 19A
ATLAS E MISSILE SITE #11 | SIX MILES NORTH OF NUNN | NUNN | CO | 80648 | AIR FORCE | 103c | 19A
GENERAL SERVICES ADMINISTRATION | DENVER FEDERAL CENTER BUILDING 41 | LAKEWOOD | CO | 80225 | GENERAL SERVICES ADMINISTRATION | 3010 | 19A
HARTWELL PROJECT | 6961 ANDERSON HWY. | HARTWELL | GA | 30643 | ARMY | 3010 | 19A
POLK COUNTY (EXT) NATIONAL GUARD TARGET RANGE |  |  | IA |  | ARMY | 103c | 19A
PALZO MINE | SHAWNEE NATIONAL FOREST | HARRISBURG | IL | 62946 | AGRICULTURE | 103c | 19A
ARMY RESERVE PERSONNEL COMMAND WAREHOUSE | RTE 3 & NEIDRINGHAUS | GRANITE CITY | IL | 62040 | ARMY | 3010 | 19A
GENERAL SERVICES ADMINISTRATION | 212 S THIRD AVE | MINNEAPOLIS | MN | 55401 | GENERAL SERVICES ADMINISTRATION | 3010 | 19A
AIR FORCE (EX) PLANT #84 | LAMBERT AIRPORT | ST LOUIS | MO |  | AIR FORCE | 103c | 19A
BELTON COMMUNICATION FACILITY | HWY 71 AT BELTON 2.5 MILES 187TH STREET | BELTON | MO |  | ENERGY | 103c | 19A
KANSAS CITY RECORDS CENTER | 601-607 HARDESTY | KANSAS CITY | MO | 64124 | GENERAL SERVICES ADMINISTRATION | 103c | 19A
US EPA ANNEX | 79 T W ALEXANDER DR | RTP | NC | 27711 | EPA | 3010 | 19A
ORE HILL MINE SITE, WHITE MOUNTAIN NATIONAL FOREST | 719 MAIN STREET | LACONIA | NH | 03246 | AGRICULTURE | 103c | 19A
DLA/DNSC SCOTIA DEPOT | ROUTE 5 | SCOTIA | NY | 12302-1039 | GENERAL SERVICES ADMINISTRATION | 3016 | 19A
NIAGARA STATION |  | YOUNGSTOWN | NY | 14174 | GENERAL SERVICES ADMINISTRATION | 103c | 19A
US POSTAL SERVICE—JAF BLDG | 8TH AVE & 33RD STREET | NEW YORK | NY | 10199 | POSTAL SERVICE | 3010 | 19A
GUS KEFURT ARMY RESERVE CENTER | 399 MILLER STREET | YOUNGSTOWN | OH | 44507 | ARMY | 3010 | 19A
KINGS MILLS MILITARY RESERVATION | 6195 STRIKER ROAD | HAMILTON TOWNSHIP | OH | 45034 | ARMY | 103c | 19A
GREENSBURG AMSA 104 W | 2150 HUNTER ROAD | GREENSBURG | PA | 15601 | ARMY | 3010 | 19A
“NEW” ARMY AVIATION SUPPORT | ISLA GRANDE ROAD OFF HACIA FERNANDEZ | SAN JUAN | PR |  | ARMY | 103c | 19A
US ARMY CORPS OF ENGINEERS | 1000 IDAHO STREET | GREENVILLE | SC | 29605 | ARMY | 3010 | 19A
U.S. FOREST SERVICE NEMO WORKSTATION SITE | NEMO | NEMO | SD | 57754 | AGRICULTURE | 103c | 19A
FEDERAL OFFICE BUILDING NO 2 | ROOM 1090 BUILDING MANAGER'S OFFICE | ARLINGTON | VA | 20370 | GENERAL SERVICES ADMINISTRATION | 3010 | 19A
FS—OKANOGAN-WENATCHEE NF: NORTH CASCADES SMOKE JUMPER BASE | 23 INTERCITY AIRPORT RD 5 MI N OF TWISP | TWISP | WA | 98862 | AGRICULTURE | 103c | 19A
FS—OKANOGAN-WENATCHEE NF: WINTHROP LOWER COMPUND | HWY 20, 300 FT W OF DOWNTOWN WINTHROP | WINTHROP | WA | 98862 | AGRICULTURE | 103c | 19A
POLE MOUNTAIN FORMER TARGET AND MANEUVER AREA | 7 MILES EAST OF LARAMIE | LARAMIE | WY | 82070 | AIR FORCE | 103c | 19A
WYOMING ARNG OMS NO. 4 | 5500 BISHOP BOULEVARD | CHEYENNE | WY | 82009-3320 | ARMY | 103c | 19A

Federal Agency Hazardous Waste Compliance Docket Update #13 Deletions
Facility name | Facility address | City | State | Zip code | Agency | Reporting mechanism | Deletion code
US COAST GUARD COMMUNICATIONS CENTER | 900 FERRY STREET | MARSHFIELD | MA | 02050 | TRANSPORTATION | 103c | 2
DEFENSE REUTILIZATION AND MARKETING SERVICE | 74 N WASHINGTON AVE | BATTLE CREEK | MI | 49017 | DEFENSE LOGISTICS AGENCY | 3010 | 4
NEWARK POST OFFICE | 300 S MAIN ST | NEWARK | NY | 14513 | POSTAL SERVICE | 3010 | 4
TULSA AIR NATIONAL GUARD | 138FG/EMO 4200 N 93RD E AVENUE | TULSA | OK |  | AIR FORCE | 103a | 1
AMTRAK—LANCASTER C&S | 55 MCGOVERN AVE | LANCASTER | PA | 17602 | TRANSPORTATION | 3010 | 2
ANGELINA NATIONAL FOREST | VICINITY STATE HIGHWAY 103 AND US 59 | LUFKIN | TX | 75901 | AGRICULTURE | 103a | 4

Federal Agency Hazardous Waste Compliance Docket Update #13 Corrections
| Facility name | Facility address | City | State | Zip code | Agency | Reporting mechanism | Correction code
C | FS—TONGASS NF: BOHEMIA BASIN EXPLORATION CAMPS | T45S R56E S8 & T45S R55E S12, CRM 6 MI W OF CY | PELICAN | AK | 99832 | AGRICULTURE | 103c | 20A
O | FS—TONGASS NF: BOHEMIA BASIN EXPLORATION CAMPS | E SIDE YAKOBY ISLAND, N END LISLANSKY STRAIT | HOONAH | AK | 99829 | AGRICULTURE | 103c |
C | FWS—AK MARITIME NWR: LITTE KISKA ISLAND | 300 MI W OF CY, 51° 58′ N, 177° 33′ E, 6 MI E OF KISKA ISL HARBOR 60 MI NW OF AMCHITKA ISL | ATKA | AK | 99547 | INTERIOR | 103c | 20A
O | FWS—AK MARITIME NWR: LITTE KISKA ISLAND | 300 MI W OF ATKA | ATKA | AK | 99547 | INTERIOR | 103c |
C | AFSPC—BUCKLEY AIR NATIONAL GUARD BASE | BUCKLEY ROAD AND EAST 6TH AVE | AURORA | CO | 80011-9599 | AIR FORCE | 3016, 103c, 3010 | 20A
O | BUCKLEY AIR NATIONAL GUARD BASE | BUCKLEY ROAD AND EAST 6TH AVE | AURORA | CO | 80011-9599 | AIR FORCE | 3016, 103c, 3010 |
C | US DOE SPR WEEKS ISLAND | LA HWY 83 7 M S LYDIA | LYDIA | LA | 70569 | ENERGY | 3010, 103c | 20A, 23
O | SPR—WEEKS ISLAND | 2 MI NW OF CYPREMONT | CYPREMONT | LA | 70560 | ENERGY | 103c |
C | HANSCOM FIELD/HANSCOM AIR FORCE BASE | 3245 ABG/CC ENVIRONMENTAL SITE 66CES4/CEVR 12TH | BEDFORD | MA | 01731 | AIR FORCE | 3005, 3010, 3016, 103c 103a | 20A
O | HANSCOM FIELD/HANSCOM AIR FORCE BASE | 3245 ABG/CC ENVIRONMENTAL SITE 66CES4/CEVR 12TH | HANSCOM AFB | MA | 01731 | AIR FORCE | 3005, 3010, 3016, 103c, 103a |
C | MASSACHUSETTS AIR NATIONAL GUARD WORCESTER | SKYLINE DR | WORCESTER | MA | 01605 | AIR FORCE | 103c | 20A
O | MASSACHUSETTS AIR NATIONAL GUARD WORCHESTER | SKYLINE DR | WORCHESTER | MA | 01605 | AIR FORCE | 103c |
C | BARNES AIR NATIONAL GUARD BASE | BARNES MUNICIPAL AIRPORT | WESTFIELD | MA | 01085 | AIR FORCE | 103c, 3010 | 20A
O | WESTFIELD AIR NATIONAL GUARD (104TFG) | BARNES MUNICIPAL AIRPORT | WESTFIELD | MA | 01085 | AIR FORCE | 103c, 3010 |
C | FORT DEVENS | BUENA VISTA ST | AYER—SHIRLEY | MA | 01432 | ARMY | 3005, 3010, 3016, 103c, 103a | 20A
O | FORT DEVENS | BUENA VISTA ST | AYER | MA | 01432 | ARMY | 3005, 3010, 3016, 103c, 103a |
C | BOSTON AREA NIKE BATTERY | OXBOW ST | WAYLAND | MA | 01778 | ARMY | 103c | 20A
O | WAYLAND ARMORY NATIONAL GUARD ARMORY | OXBOW ST | WAYLAND | MA | 01778 | ARMY | 103 |
C | OLD LANDFILL AREA/BIRCH HILL DAM | BIRCH HILL DAM | ROYALSTON | MA |  | CORPS OF ENGINEERS, CIVIL | 103c | 20A
O | ROYALSTON TOWN DUMP | BIRCH HILL DAM | ROYALSTON | MA |  | CORPS OF ENGINEERS, CIVIL | 103c |
C | CASCO BAY DEFENSE FUEL SUPPORT POINT | RT 123 | HARPSWELL (SOUTH) | ME | 04079 | DEFENSE LOGISTICS AGENCY | 3010, 3016, 103c | 20A
O | CASCO BAY DEFENSE FUEL SUPPORT POINT | RT 123 | SOUTH HARPSWELL NECK | ME | 04079 | DEFENSE LOGISTICS AGENCY | 3010, 3016, 103c |
C | USACE—WAYNE INTERIM STORAGE | 868 BLACK OAK RIDGE RD | WAYNE | NJ | 07470 | CORPS OF ENGINEERS, CIVIL | 3010, 3016, 103c | 21, 23
O | WAYNE INTERIM STORAGE SITE (WR GRACE AND CO) | 868 BLACK OAK RIDGE RD | WAYNE | NJ | 07470 | ENERGY | 3016, 103c |
C | NPS—SARATOGA NATIONAL HISTORICAL PARK | 648 RT 32 | STILLWATER | NY | 12170 | INTERIOR | 103c | 20A
O | NPS—SARATOGA NATIONAL HISTORICAL PARK | 648 RT 32 | SARATOGA SPRINGS | NY | 12170 | INTERIOR | 103c |
C | BRADFORD ISLAND LANDFILL | T2N R7E S22 SW¼, WILLAMETTE MERIDIAN | CASCADE LOCKS | OR | 97014 | CORPS OF ENGINEERS, CIVIL | 103c | 20A
O | BRADFORD ISLAND LANDFILL | T2N R7E S22 S22 SW1/4, WILLAMETTE MERIDIAN | CASCADE LOCKS | OR | 97014 | CORPS OF ENGINEERS, CIVIL | 103c |
C | SAN JUAN POST OFFICE AND COURTHOUSE | COMERICO ST AND TANCA ST | SAN JUAN | PR | 00906 | GENERAL SERVICES ADMINISTRATION | 3010, 103c | 23
O | SAN JUAN POST OFFICE & COURTHOUSE | COMERCIO ST & TANCA ST | SAN JUAN | PR | 00906 | GENERAL SERVICES ADMINISTRATION | 3010 |
C | NEW RIVER AMMUNITION STORAGE DEPOT | STATE RTE 11 | DUBLIN | VA | 24084 | ARMY | 3005, 3010, 3016, 103c, 103a | 20A
O | RADFORD ARMY AMMUNITION PLANT | STATE RTE 114 | RADFORD | VA | 24141 | ARMY | 3005, 3010, 3016, 103c, 103a |
C | NIOSH—FORMERLY ATLAS E MISSILE FACILITY S-9 SITE | T27N R39E S36, 9 MI N OF REARDAN | REARDAN | WA | 99029 | HEALTH AND HUMAN SERVICES | 103c | 20A
O | NIOSH—FORMERLY ATLAS E MISSILE FACILITY S-9 SITE | T27N R39E S36, 9 MI N OF REARDON | REARDON | WA | 99029 | HEALTH AND HUMAN SERVICES | 103c

Federal Agency Hazardous Waste Compliance Docket NFRAP Status Facilities
Facility name | Facility address | City | State | Zip code | Agency | Reporting mechanism
CHUGACH NF; KENAI LAKE WORK CENTER | MI 23.5 SEWARD HIGHWAY | SEWARD | AK | 99664 | AGRICULTURE | 103c, 3010, 3016
FS—TONGASS NF; BOHEMIA BASIN EXPLORATION CAMPS | T45S R56E 28 & T45S R55E S12, CRM 6 MI W OF CY | PELICAN | AK | 99832 | AGRICULTURE | 103c
ANVIL MOUNTAIN WHITE ALICE COMMUNICATIONS SITE | 6.5 MI N OF NOME | NOME | AK | 99762 | AIR FORCE | 103c, 3016
BEAR CREEK AIR FORCE STATION | YUKON RIVER ON N SHORE | TANANA | AK | 99777 | AIR FORCE | 103c, 3010, 3016
BETHEL AIR FORCE STATION | AIRPORT—W END OF MAIN ROAD | BETHEL | AK | 99559 | AIR FORCE | 3010, 3016, 103c
BIG MOUNTAIN AIR FORCE STATION | S SHOURE ILIAMNA/S SIDE BIG MTN | BIG MOUNTAIN AFS | AK | 99501 | AIR FORCE | 3010, 103c, 3016
CAMPION AIR FORCE STATION | 4 MILES NE OF GALENA | GALENA | AK | 99765 | AIR FORCE | 3016, 3010, 103c
CANYON CREEK RADIO RELAY STATION | T7S R7E S27 FM | BIG DELTA | AK | 99737 | AIR FORCE | 3010, 103c, 3016
CAPE ROMANZOF AIR FORCE STATION | 20 MI N OF HOOPER DAY, YUKON DELTA NWR | HOOPER BAY | AK | 99604 | AIR FORCE | 3010, 103c, 3016
CLEAR AIR FORCE STATION | HWY 3 & NENANA RD | ANDERSON | AK | 99704 | AIR FORCE | 3010, 103c, 3005
DEWLINE SITE LIZ-2: POINT LAY LLRS | KASEGALUK LAGOON & KOKOLIK RIVER | POINT LAY | AK | 99579 | AIR FORCE | 3010, 103c, 3016
DEWLINE SITE LIZ-3: WAINWRIGHT | KUK RIVER AND CHUKSI SEA | WAINWRIGHT | AK | 99782 | AIR FORCE | 3010, 103c, 3016
DEWLINE SITE POW-1: PT. LONELY | PITT POINT, 85 MI SE OF BARROW | BARROW | AK | 99723 | AIR FORCE | 3010, 103c, 3016
DEWLINE SITE POW-2: OLIKTOK | 40 MI W OF DEADHORSE | OLIKTOK | AK | 99599 | AIR FORCE | 3010, 103c, 3016
DEWLINE SITE POW-MAIN: POINT BARROW | BETWEEN N SALT LAGOON & IMIKPUK LAKE | BARROW | AK | 99723 | AIR FORCE | 3010, 103c, 3016
DRIFTWOOD BAY AIR FORCE STATION | N COAST UNALASKA ISLAND | DRIFTWOOD BAY | AK | 99553 | AIR FORCE | 103c, 3016
FORT YUKON AIR FORCE STATION | N OF YLLOTA SLOUGH | FORT YUKON | AK | 99740 | AIR FORCE | 3010, 103c, 3016
GOLD KING CREEK RADIO RELAY STATION | T8S R2W SEC 22, 27 | VALDEZ | AK | 99686 | AIR FORCE | 103c, 3010, 3016
GRANITE MOUNTAIN AIR FORCE STATION | 14 MI NW OF CY | HAYCOCK | AK | 99762 | AIR FORCE | 103c, 3010, 3016
INDIAN MOUNTAIN AIR FORCE STATION | NW SOURCE OF INDIAN RIVER | BETTLES | AK | 99720 | AIR FORCE | 3010, 103c, 3016
KALAKAKET CREEK | S SHORE OF KALA CREEK | GALENA | AK | 99741 | AIR FORCE | 3010, 103c, 3016
MURPHY DOME AIR FORCE STATION | CHATINIKA RIVER | MURPHY DOME | AK | 99701 | AIR FORCE | 3010, 3016, 103c
NIKOLSKI AIR FORCE STATION | W COAST TO UMNAK IS | NIKOLSKI | AK | 99638 | AIR FORCE | 103c, 3016
NORTH RIVER WHITE ALICE COMMUNICATIONS (WAC) SITE | 8 MI OF UNALAKLEET | UNALAKLEET | AK | 99684 | AIR FORCE | 3016
PILLAR MOUNTAIN WHITE ALICE COMMUNICATIONS SITE | T27S R20W S36 SM | KODIAK | AK | 99615 | AIR FORCE | 103c
PORT HEIDEN AIR FORCE STATION | NW SHORE OF HEIDEN BAY | PORT HEIDEN | AK | 99549 | AIR FORCE | 103c, 3016, 3010
PORT MOLLER AIR FORCE STATION | 55D58M41SN, 160D29M45SW | PORT MOLLER | AK | 99571 | AIR FORCE | 3010, 103c, 3016
SPARREVOHN AIR FORCE STATION | HOOK CREEK, 18 MI SW OF CITY | LIME VILLAGE | AK | 99557 | AIR FORCE | 3010, 103c, 3016
TATALINA AIR FORCE STATION | 9 MI SW OF MCGRATH | MCGRATH | AK | 99627 | AIR FORCE | 3010, 103c, 3016
TIN CITY AIR FORCE STATION | 1 MI NE OF TIN CITY | TIN CITY | AK | 99783 | AIR FORCE | 3010, 103c, 3016
GERSTLE RIVER TEST SITE | T13S R 14E SEC 9, 15, 16 | FORT GREELY | AK | 98733 | ARMY | 3005, 3010, 3016, 103c
HAINES PETROLEUM, OIL & LUBRICANTS (POL) TERMINAL | LUTEK POINT | HAINES | AK | 99827 | ARMY | 103c
NOATAK NATIONAL GUARD ARMORY | 55 MI N OF KOTZEBUE | NOATAK | AK | 99761 | ARMY | 103c, 3016
NOAA-NATIONAL MARINE FISHERIES SERVICE | PRIBIL OF ISLAND | SAINT PAUL ISLANDS | AK | 99660 | COMMERCE | 103c, 3010
ANCHORAGE DEFENSE FUEL SUPPORT POINT | 1217 ANCHORAGE PORT ROAD | ANCHORAGE | AK | 99501 | DEFENSE | 3016, 3010, 103c
WHITTIER TANK FARM | ¾ MI N OF TOWN | WHITTIER | AK | 99723 | DEFENSE | 103c, 3016, 3010
BLM—CHANDALAR DUMP | T16S R11E S9 UM, 155 MI SE OF BARROW | BARROW | AK | 99723 | INTERIOR | 103c
BLM—FEATHER RIVER AIRSTRIP | T7S R37W S34&35 & T8S R37W S2&3 | NOME | AK | 99762 | INTERIOR | 103c
BLM—FORT EGBERT DUMP | T1S, R33E, SEC 31 | EAGLE | AK | 99738 | INTERIOR | 103c
BLM—MACLAREN GLACIER MINE | T19S R6E S14NE S11 FAIRBANKS MERIDIAN | PAXSON | AK | 99737 | INTERIOR | 103c
BLM—O'BRIAN CREEK DUMP | T7S R32E S9 NW¼, 50 MI S OF CITY | EAGLE | AK | 99738 | INTERIOR | 103c
BLM—OLD MAN CAMP SITE | T19N R14W S19 AND T19N R15W S24 | ALLAKAKET | AK | 99720 | INTERIOR | 103c
BLM—PAXSON DUMP | T22S R12E S5 SW¼ SW¼ COPPER RIVER MERIDIAN | PAXSON | AK | 99737 | INTERIOR | 103c
BLM—PEARD BAY DEWLINE | 50 MI SW OF BARROW | BARROW | AK | 99723 | INTERIOR | 103c, 3010
BLM—PUMP STATION 12 DUMP SITE | T4S R1E S26 NWSW | COPPER CENTER | AK | 99573 | INTERIOR | 103c
BLM—RED TOP RETORT SITE | T10S R55W SEWARD MERIDIAN | ALEKNAGIK | AK | 99555 | INTERIOR | 103c
BLM—SAG RIVER DUMP | T8S R14E S8 | DEADHORSE | AK | 99734 | INTERIOR | 103c
BLM—SKULL CLIFF LORAN STATION | 23 MILES SW OF BARROW ON COAST | BARROW | AK | 99723 | INTERIOR | 103c
BLM—SLANA DUMP SITE | MILE 67 OF DENALI HWY | CANTWELL | AK | 99729 | INTERIOR | 103c
BLM—TANACROSS AIRFIELD | 63D22MOOSW | TANACROSS | AK | 99776 | INTERIOR | 103c
BLM—TANGLE LAKES DUMP SITE | MILE 22 DENALI HWY | PAXSON | AK | 99737 | INTERIOR | 103c
BLM—WALKER FORK DUMP | T26N R22E S4 N½ N½, 49 MI N OF CITY | CHICKEN | AK | 99732 | INTERIOR | 103c
FWS—ALASKA MARITIME NWR: CAPE THOMPSON | MILVIKSAAQAQ DR | POINT HOPE | AK | 99766 | INTERIOR | 103c
FWS—ALASKA MARITIME NWR: CATON ISLAND | 55 MI S OF CITY | COLD BAY | AK | 99571 | INTERIOR | 103c
FWS—ALASKA MARITIME NWR: GREAT SITKIN ISLAND | 51°59′05″ N, 176°06′26″ W, 25 MI NE OF ADAK | ADAK | AK | 98546 | INTERIOR | 103c
FWS—ALASKA MARITIME NWR: LITTLE KISKA ISLAND | 300 MI W OF CY, 51°58′ N, 177°33′ E, 6 MI E OF KISKA ISL HARBOR 60 MI NW OF AMCHITKA ISL | ATKA | AK | 99547 | INTERIOR | 103c
FWS—ALASKA MARITIME NWR: SEMISOPOCHNOI ISLAND | 300 MI W OF ATKA | ATKA | AK | 99547 | INTERIOR | 103c
FWS—ARCTIC NWR: BROWNLOW POINT DEWLINE SITE | 70 MI E OF DEADHORSE/PRUDHOE BAY | DEADHORSE | AK | 99734 | INTERIOR | 103c, 3016
FWS—ARCTIC NWR: COLLINSON POINT DEWLINE SITE | 37 MI W OF KAKTOVIK | KAKTOVIK | AK | 99747 | INTERIOR | 103c
FWS—ARCTIC NWR: DEMARCATION POINT DEWLINE SITE | 65 MI SE OF KAKTOVIK | KAKTOVIK | AK | 99747 | INTERIOR | 103c, 3016
FWS—ARCTIC NWR: LAKE PETERS & MARSH FORK NARL SITE | 70 MI SW OF KAKTOVIK 69°16′60″ N, 145°02′00″ W & 69°10′00″ N, 145;°47′30″ W | KAKTOVIK | AK | 99747 | INTERIOR | 103c
FWS—ARTIC NWR: PORCUPINE RVR DEWLINE STAGING AREA | T14S R48E S33 NE 1/4 NE 1/4 | ARCTIC VILLAGE | AK | 99722 | INTERIOR | 103c
FWS—KENAI NWR: SKILAK GUARD STATION | SKILAK LAKE RD, MI 4.5, 60D31M00SN, 150D28M00SW | STERLING | AK | 99672 | INTERIOR | 103c, 3016
FWS—KENAI NWR: SWAN LAKE MOOSE RESEARCH STATION | SWAN LAKE RD, 15 MI S OF SWANSON RIVER RD, 60D44M30SN, 150D28M00SW | SOLDOTNA | AK | 99619 | INTERIOR | 103c
FWS—KENAI NWR: SWANSON RIVER OIL FIELD | SWANSON LAKE RD, 60D43M00SN, 150D51M00SW | KENAI | AK | 99611 | INTERIOR | 3016, 103c
NPS—BERING LAND BRIDGE NP: LAVA LAKE | 45 MI SW OF DEERING | DEERING | AK | 99736 | INTERIOR | 103c, 3016, 3010
NPS—DENALI NATIONAL PARK AND PRESERVE | MI 237, GEORGE PARKS HWY | DENALI PARK | AK | 99755 | INTERIOR | 3016, 103c
NPS—DENALI NATIONAL PARK: RED TOP MINE | DENALI NATIONAL PARK | DENALI PARK | AK | 99765 | INTERIOR | 103c
NPS—GLACIER BAY NATIONAL PARK AND PRESERVE | BARTLETT COVE | GUSTAVUS | AK | 99826 | INTERIOR | 3016, 103c
NPS—KATMAI NP&P: NAKNEK RECREATION SITE #2 | T17S R44W S25 & T18S R44W S4 | KING SALMON | AK | 99613 | INTERIOR | 103c
NPS—NAGLATUK HILL | CAPE KRUSENSTERN NATIONAL MONUMENT | KOTZEBUE | AK | 99752 | INTERIOR | 3016, 103c, 3010
CAPE PRINCE OF WALES STATION | 0.3 MI S OF AIRSTRIP, 65D36M30SN, 168D03M50SW | WALES | AK | 99783 | NAVY | 103c, 3010
CAPE SABINE DEW LINE SITE | 55 MI SW OF POINT LAY, MOUTH OF KAHKATAK CREEK, 69D01M00SN, 163D51M00SW | POINT LAY | AK | 99759 | NAVY | 103c
FORMER NAVAL ARCTIC RESEARCH LABORATORY BARROW | MAIN ST, 4 MI N OF CY, 71°19′42″ N, 156°40′18″ | BARROW | AK | 99723 | NAVY | 103c, 3010
NORTHEAST CAPE ST. LAWRENCE ISLAND | 70 MI E OF SAVOONGA ST. LAWRENCE | NORTHEAST CAPE | AK | 99769 | NAVY | 3010, 3016, 103c
POINT MCINTYRE DEWLINE SITE | 15 NW OF CITY | DEADHORSE | AK | 99734 | NAVY | 103c
TIN CITY WHITE ALICE SITE | 1.25 MI N OF AIRPORT | TIN CITY | AK | 99783 | NAVY | 103c
FAIRBANKS VEHICLE MAINTENANCE FACILITY | 5400 MAIL TRAIL WAY | FAIRBANKS | AK | 99709 | POSTAL SERVICE | 3010, 103c
CG—CAPE SARICHEF | UNIMAK ISLAND, W COAST | UNIMAK | AK | 99685 | TRANSPORTATION | 103c
CG—EDNA BAY ENTRANCE LIGHT | EDNA BAY, 32 MI NW OF CITY | CRAIG | AK | 99921 | TRANSPORTATION | 3010
CG—KODIAK SUPPORT CENTER | WOMANS BAY KODIAK ISL | KODIAK | AK | 99619 | TRANSPORTATION | 3010, 103c, 3016, 3005
CG—LORAN STATION ON SITKINAK | SITKINAK ISLAND | OLD HARBOR | AK | 99643 | TRANSPORTATION | 103c
CG—POINT SPENCER DUMP SITE | PORT CLARENCE—60 MI NW OF CY | NOME | AK | 99762 | TRANSPORTATION | 103c, 3010
CG—ST PAUL ISLAND LORAN STATION | SAINT PAUL AIRPORT, 1.5 MI FROM FUNWAY #2 | SAINT PAUL ISLAND | AK | 99660 | TRANSPORTATION | 3010, 103c
FAA—AIR ROUTE TRAFFIC CENTER | 5400 DAVIS HIGHWAY | ANCHORAGE | AK | 99506 | TRANSPORTATION | 103c, 3010
FAA—ANIAK STATION | ANIAK AIRPORT | ANIAK | AK | 99557 | TRANSPORTATION | 103c
FAA—ANNETTE ISLAND | ANNETTE AIRPORT NAV AIDS | ANNETTE | AK | 99926 | TRANSPORTATION | 103c
FAA—BARROW AIR NAVIGATION STATION | BARROW AIRPORT AREA | BARROW | AK | 99723 | TRANSPORTATION | 103c, 3010
FAA—BETHEL STATION | T8N R72W S13 SEWARD MERIDIAN | BETHEL | AK | 99559 | TRANSPORTATION | 103c
FAA—BETTLES STATION | BETTLES AIRPORT | BETTLES | AK | 99726 | TRANSPORTATION | 103c, 3016
FAA—BIG LAKE VORTAC SITE | 61D33M00SN, 149D52M00SW | BIG LAKE | AK | 99652 | TRANSPORTATION | 103c
FAA—BIG LEVEL ISLAND AIR NAVIGATION STATION | 56D27M00SN, 133D05M00SW, 75 MI SE OF PETERSBURG | PETERSBURG | AK | 99833 | TRANSPORTATION | 103c, 3016
FAA—BIORKA ISLAND | 6 MI W OF SITKA | SITKA | AK | 99835 | TRANSPORTATION | 3010, 1016, 103c
FAA—CAPE YAKATAGA STATION | 60D04M57SN, 142D29M30SW | CORDOVA | AK | 99574 | TRANSPORTATION | 3010; 3016, 103c
FAA—CHANDALAR STATION | 67D30M02SN, 148D28M00SW, 112 MI NW OF FORT YUKON | CHANDALAR | AK | 99740 | TRANSPORTATION | 103c
FAA—COGHLAN ISLAND STATION | 58D21M10SN, 134D42M09SW, 4 MI W OF JUNEAU | JUNEAU | AK | 99821 | TRANSPORTATION | 3016, 103c
FAA—COLD BAY STATION | COLD BAY AIRPORT | COLD BAY | AK | 99571 | TRANSPORTATION | 103c
FAA—CORDOVA STATION | COPPER RIVER HIGHWAY 10 M S OF CY | CORDOVA | AK | 99574 | TRANSPORTATION | 103c
FAA—DEADHORSE STATION | DEADHORSE AIRPORT NAV AIDS | DEADHORSE | AK | 99734 | TRANSPORTATION | 103c
FAA—DILLINGHAM AIRPORT | DILLINGHAM | DILLINGHAM | AK | 99576 | TRANSPORTATION | 3016, 103c
FAA—DUNCAN CANAL, KUPREANOF ISLAND, INDIAN POINT | 56D45M00SN, 133D51M00SW, 10 MI SW OF PETERSBURG | PETERSBURG | AK | 99833 | TRANSPORTATION | 103c
FAA—DUTCH HARBOR STATION | DUTCH HARBOR AIRPORT | DUTCH HARBOR | AK | 99692 | TRANSPORTATION | 103c, 3010
FAA—FAIRBANKS STATION | 5640 AIRPORT WAY | FAIRBANKS | AK | 99790 | TRANSPORTATION | 103c
FAA—FAIRWELL STATION | 62D30M24SN, 153D53M37SW | MCGRATH | AK | 99627 | TRANSPORTATION | 3010, 103c, 3016
FAA—FIRE ISLAND NAVIGATION STATION | 61D08M00SN, 150D13M00SW, 6 MI W OF ANCHORAGE | ANCHORAGE | AK | 99506 | TRANSPORTATION | 3010, 3016, 103c
FAA—FORT YUKON AIR NAVIGATION STATION | FORT YUKON AIRPORT | FORT YUKON | AK | 99740 | TRANSPORTATION | 3016, 103c
FAA—GALENA STATION | 64D44M10SN, 156D56M04SW, GALENA AIRPORT NAV AIDS | GALENA | AK | 99741 | TRANSPORTATION | 103c
FAA—GULKANA STATION | GULKANA AIRPORT | GULKANA | AK | 99586 | TRANSPORTATION | 103c
FAA—GUSTAVUS | GUSTAVUS AIRPORT NAV AIDS | GUSTAVUS | AK | 99826 | TRANSPORTATION | 103c
FAA—HAINES AIR NAVIGATION STATION | 2 MI S ON FAA/HAINES RD, 59D14M42SN, 135D31M19SW | HAINES | AK | 99827 | TRANSPORTATION | 103c, 3010
FAA—HOMER AIRPORT | HOMER | HOMER | AK | 99603 | TRANSPORTATION | 3016, 103c
FAA—ILIAMNA SITE | ILIAMNA | ILIAMNA | AK | 99606 | TRANSPORTATION | 3016, 103c
FAA—JOHNSTONE POINT AIR NAVIGATION STATION | NW HINCHINBROOK ISLAND, 60D28M00SN, 146D34M00SW | CORDOVA | AK | 99574 | TRANSPORTATION | 3016, 103c
FAA—JUNEAU STATION | 9341 GLACIER HIGHWAY NAV AIDS | JUNEAU | AK | 99801 | TRANSPORTATION | 103c
FAA—KENAI STATION | KENAI MUNICIPAL AIRPORT | KENAI | AK | 99611 | TRANSPORTATION | 3010, 103c
FAA—KING SALMON STATION | AIRPORT S OF CY NAV AIDS | KING SALMON | AK | 99613 | TRANSPORTATION | 103c
FAA—KOTZEBUE AIRPORT | KOTZEBUE AIRPORT | KOTZEBUE | AK | 99752 | TRANSPORTATION | 3016, 103c
FAA—LAKE HOOD FACILITY | T13N R4W S34 NE | ANCHORAGE | AK | 99518 | TRANSPORTATION | 103c, 3010
FAA—LAKE MINCHUMINA STATION | RAMP AT LAKE MINCHUMINA AIRPORT | LAKE MINCHUMINA | AK | 99757 | TRANSPORTATION | 3010, 3016, 103c, 3005
FAA—MCGRATH STATION | AIRPORT N OF CITY, NAV AIDS | MCGRATH | AK | 99627 | TRANSPORTATION | 103c
FAA—MIDDLETON ISLAND STATION | 59D27M02SN, 146D18M24SW, 80 MI S OF CORDOVA | CORDOVA | AK | 99574 | TRANSPORTATION | 3016, 103c
FAA—MOSES POINT AIR NAVIGATION STATION | MOSES POINT AIRFIELD, 64D41M53SN, 162D03M26SW | ELIM | AK | 99739 | TRANSPORTATION | 3010, 3016, 103c
FAA—NENANA/NORTH NENANA STATION | NENANA AIRPORT, 64D32M56SN, 149D042M24SW | NENANA | AK | 99760 | TRANSPORTATION | 3016, 103c
FAA—NOME AIR NAVIGATION STATION | NOME MUNICIPAL AIRPORT, 64D30M47SN, 165D26M34SW | NOME | AK | 99762 | TRANSPORTATION | 103c, 3010
FAA—NORTHWAY STAGING FIELD | NORTHWAY VILLAGE | NORTHWAY VILLAGE | AK | 99764 | TRANSPORTATION | 3016, 103c, 3010
FAA—PETERSBURG FACILITY | UNMANNED SITE MITKOF ISLAND | PETERSBURG | AK | 99833 | TRANSPORTATION | 103c
FAA—POINT WORONZOF RTR FACILITY | ANCHORAGE INTERNATIONAL AIRPORT AREA | ANCHORAGE | AK | 99502 | TRANSPORTATION | 103c, 3010
FAA—PUNTILLA AIR NAVIGATION STATION | PUNTILLA LAKE, 62D04M24SN, 152D43M59SW | SKWENTNA | AK | 99667 | TRANSPORTATION | 3016, 103c
FAA—SAINT MARY'S AIR NAVIGATION STATION | YUKON DELTA NATIONAL WILDLIFE REFUGE | SAINT MARY'S | AK | 99658 | TRANSPORTATION | 103c
FAA—SAND POINT STATION | 2 MI W OF SANDPOINT, 55D18M54SN, 160D31M03SW | SANDPOINT | AK | 99661 | TRANSPORTATION | 103c
FAA—SHUYAK STATION | SHUYAK ISLAND 60M N OF KODIAK | KODIAK | AK | 99615 | TRANSPORTATION | 103c, 3010
FAA—SISTERS ISLAND | 58D10M40SN, 135D15M24SW | JUNEAU | AK | 99803 | TRANSPORTATION | 103c
FAA—SITKA STATION | 57D03M07SW, 135D21M45SW, JAPONSKI ISLAND AIRPORT | SITKA | AK | 99835 | TRANSPORTATION | 103c, 3010
FAA—SKWENTNA AIR NAVIGATION STATION | SKWENTNA AIRPORT | SKWENTNA | AK | 99667 | TRANSPORTATION | 3010, 3016, 103c
FAA—SLANA FACILITY | SLANA ARPRT COPPER RV LOWLAND | SLANA | AK | 99586 | TRANSPORTATION | 103c, 3010
FAA—STRAWBERRY POINT | POINT BENTINCK NAV AIDS | CORDOVA | AK | 99574 | TRANSPORTATION | 103c
FAA—SUMMIT AIR NAVIGATION STATION | CANTWELL PKS HWY 5 MI S | SUMMIT | AK | 99729 | TRANSPORTATION | 3016, 3010, 103c
FAA—TALKEETNA AIRPORT | TALKEETNA AIRPORT | TALKEETNA | AK | 99676 | TRANSPORTATION | 3016, 103c
FAA—TANANA AIR FIELD STATION | TANANA AIRPORT NAV AIDS | TANANA | AK | 99777 | TRANSPORTATION | 103c
FAA—UMIAT AIRSTRIP STAGING AREA | N BANK COLVILLE RIVER | UMIAT | AK | 99723 | TRANSPORTATION | 103c
FAA—UNALAKLEET STATION | UNALAKLEET AIRPORT | UNALAKLEET | AK | 99684 | TRANSPORTATION | 3016, 103c
FAA—WOODY ISLAND STATION | WOODY ISLAND | KODIAK | AK | 99615 | TRANSPORTATION | 3016, 103c
FAA—YAKUTAT AIR NAVIGATION STATION | YAKUTAT AIRPORT | YAKUTAT | AK | 99689 | TRANSPORTATION | 103c
FRA—ARCTIC COOPERAGE | 932 WHITNEY ROAD | ANCHORAGE | AK | 99501 | TRANSPORTATION | 103c
BELLEFONTE NUCLEAR PLANT | OFF US HWY 72 | HOLLYWOOD | AL | 36401 | TENNESSEE VALLEY AUTHORITY | 3005, 3010, 103c
BROWNS FERRY NUCLEAR PLANT | US HWY 72 | ATHENS | AL | 35611 | TENNESSEE VALLEY AUTHORITY | 3010, 103c
COLBERT FOSSIL PLANT | OFF US HWY 72 W | TUSCUMBIA | AL | 35674 | TENNESSEE VALLEY AUTHORITY | 3005, 3010, 103c, 103a
GUNTERSVILLE HYDRO PLANT | OFF US HWY 431, 11 MI NW OF GUNTERSVILLE | GUNTERSVILLE | AL | 35976 | TENNESSEE VALLEY AUTHORITY | 3010, 103c
MUSCLE SHOALS POWER SERVICE CENTER | AL HWY 133 | MUSCLE SHOALS | AL | 35660 | TENNESSEE VALLEY AUTHORITY | 3005, 3010, 3016, 103a, 103c
NATIONAL FERTILIZER AND ENVIRONMENTAL RESEARCH CTR | WILSON DAM ROAD | MUSCLE SHOALS | AL | 35660 | TENNESSEE VALLEY AUTHORITY | 3005, 3010, 3016, 103c
WIDOWS CREEK FOSSIL PLANT | OFF US HWY 72 W | STEVENSON | AL | 35772 | TENNESSEE VALLEY AUTHORITY | 3005, 3010, 103c
WILSON HYDRO PLANT | AL HWY 133 | FLORENCE | AL | 35660 | TENNESSEE VALLEY AUTHORITY | 3010, 103c
GUAM NAVAL MAGAZINE | APRA HBR HTS AREA BY FENA RESV | APRA HARBOR | AQ | 96910 | NAVY | 103c
SOUTH CENTRAL FAMILY FARM RESEARCH CENTER | RT. 2, BOX 144A HWY 23 SOUTH | BOONEVILLE | AR |  | AGRICULTURE | 3016
FORT CHAFFEE | BUILDING 239 | FORT CHAFFEE | AR | 72905 | ARMY | 3005, 3010, 3016, 103c
MILLWOOD RESIDENT ENGINEERS OFFICE | ROUTE 1 | ASHDOWN | AR |  | CORPS OF ENGINEERS, CIVIL | 103c
COMBUSTION RESEARCH FACILITY | NCTR, BLDG. 45 | JEFFERSON | AR | 72079 | EPA | 3005, 3010, 3016, 103c
SKY HARBOR INTERNATIONAL AIRPORT | 2001 S. 32ND ST | PHOENIX | AZ | 85034 | AIR FORCE | 3010, 103c
DOUGLAS RANGE | 1401 EIGHTH ST | DOUGLAS | AZ | 85607 | ARMY | 3016, 103c
SAFFORD RANGE | 4001 FIRST AVE | SAFFORD | AZ | 85546 | ARMY | 3016, 103c
USAG FORT HUACHUCA | A T Z S E H B | FORT HUACHUCA | AZ | 85613 | ARMY | 3010, 3016, 103c, 103a, 3005
AQUATIC WEED CONTROL RESEARCH LABORATORY | 3116 WICKSON HALL UNIVERSITY OF CALIF | DAVIS | CA | 95616 | AGRICULTURE | 3016, 103c
COTTON RESEARCH CENTER | 17053 SHAFTER AVENUE | SHAFTER | CA | 93263 | AGRICULTURE | 3010, 3016, 103c
SIERRA NF: BASS LAKE LANDFILL | 1130 O ST. ROOM 3017 | FRESNO | CA | 93721 | AGRICULTURE | 103c, 3016
PLANT #19 | 4297 PACIFIC COAST HWY | SAN DIEGO | CA | 92101-5001 | AIR FORCE | 103c, 3016, 3010
NORWALK DEFENSE FUEL SUPPLY CENTER | 15306 NORWALK BLVD | NORWALK | CA | 90650 | DEFENSE LOGISTICS AGENCY | 3010, 3016, 103c
LAWRENCE BERKELEY LABORATORY | 1 CYCLOTRON RD | BERKELEY | CA | 94720 | ENERGY | 3005, 3010, 3016, 103a, 103c
STANFORD LINEAR ACCELERATOR CENTER | 2575 SANDHILL RD | MENLO PARK | CA | 94305 | ENERGY | 3010, 3016, 103c, 103a
TEXACO SECTION 8 CENTRAL SOLID WASTE SITE | T32S/R24E MBD&M | TAFT | CA | 93268 | ENERGY | 103c
TEXACO SECTION 8 GAS PLANT | T32S/R24E MDB&M | TAFT | CA | 93268 | ENERGY | 103c
BLM—A&W SMELTER |  | ROSAMUND | CA |  | INTERIOR | 103c
BLM—AFTERTHOUGHT MINE | T35N, R2W, SEC. 10&11 | BELLAVISTA | CA | 96008 | INTERIOR | 103c
BLM—AFTON CANYON/UNION PACIFIC RAILROAD | T10—11R4-6SEC4-22 | AFTON | CA | 92365 | INTERIOR | 3016, 103c
BLM—BLACKROCK MINE | T3S, R31E, SEC 13 & 14 MDM | BISHOP | CA | 93514 | INTERIOR | 103c, 3016
BLM—BLUE ROCK MILLSITE | T8SR37ESEC8SESE | BIG PINE | CA | 93513 | INTERIOR | 103c
BLM—BODIE MINE | T4N, R21E, SEC 9&8 MDM | BRIDGEPORT | CA | 93517 | INTERIOR | 103c, 3016
BLM—BRAWLEY DRUG LAB | NEAR BRAWLEY | BRAWLEY | CA |  | INTERIOR | 103c
BLM—CALIFORNIA DESERT DISTRICT | T10NR2WSEC7 | BARSTOW | CA | 92311 | INTERIOR | 103c
BLM—CUYAMA DRUG LABORATORY | T10N, R28W, SEC 15, NESE | SANTA BARBARA | CA |  | INTERIOR | 3016
BLM—DESERT SITE | 9 MI.WEST OF YUMA, AZ |  | CA |  | INTERIOR | 103c
BLM—DUCK FLAT | T36NR19ESEC7NWSE |  | CA |  | INTERIOR | 103c, 3016
BLM—EL CAPITAN QUARRY | T15SR7ESEC1 | LAKESIDE | CA | 92040 | INTERIOR | 3016, 103c
BLM—FORT SODA DISPOSAL SITE | T12NR8ESCE11 | BAKERSFIELD | CA | 92390 | INTERIOR | 103c
BLM—INDIO HILLS | 1 MI. E. OF DILLON RD |  | CA |  | INTERIOR | 103c
BLM—KLAU MINE | S½, SEC 33, T26S, R10E, MT DIABLO | SAN LUIS COUNTY | CA |  | INTERIOR | 103c
*BLM—LASSEN COLLEGE SITE | HWY 139 PO-BOX 3000 | SUSANVILLE | CA | 96130 | INTERIOR | 3016
BLM—OSAGE INDUSTRIES | 60TH WEST | ROSAMOND | CA | 93560 | INTERIOR | 103c
BLM—RIVERSIDE COUNTY DUMP | 1000 MIDLAND RD | BLYTHE | CA | 92225 | INTERIOR | 103c
BLM—SALAMBO MINE | T25, R15E, SEC 32, NE ¼, MDM | COULTERVILLE | CA | 95311 | INTERIOR | 103c, 3016
BLM—SHELL OIL CO. OF CALIFORNIA GORE B | T31SR22ESEC21 | TAFT | CA |  | INTERIOR | 103c
BLM—SIMCAL CHEMICAL CORPORATION | 50 W. DANNENBERG RD. | EL CENTRO | CA |  | INTERIOR | 103C, 3010
BLM—STATELINE DUMP (LANDFILL) | N/A |  | CA |  | INTERIOR | 3016, 103c
BLM—SUSANVILLE HORSE CORRALS SITE | T29NR15ESEC9 6 MI NW OF SUSANVILLE | SUSANVILLE | CA | 96130 | INTERIOR | 103c, 3016
BLM—SWANSEA SITE | T16S,R. 37E., SEC 24, SE SW, MT DIABLO M | KEELER | CA |  | INTERIOR | 103c, 3016
BLM—UNION CARBIDE, JOE MINE | T18SR12ESEC24&25 | COALINGA | CA | 93210 | INTERIOR | 103c
BLM—UPPER MIDDLE PARK CANYON TRESPASS DUMP | T22 S., R.45E., SEC 27 | BALLARAT | CA | 93562 | INTERIOR | 103c
BLM—VALLECITOS OILFIELD | T16S R11E SEC 25 | HOLLISTER | CA | 95023 | INTERIOR | 103c
BLM—VICTORY MILLSITE | T11NR12WSEC32, SILVER QUEEN ROAD | MOJAVE | CA | 93501 | INTERIOR | 103c
NPS—EL PORTAL RR FLAT | HWY 140 | EL PORTAL | CA | 95318 | INTERIOR | 103c
NPS—SEQUOIA & KINGS CANYON NATIONAL PARK | ASH MOUNTAIN | THREE RIVERS | CA | 93271 | INTERIOR | 3005, 3010, 3016, 103c
CIVIL ENGINEERING LABORATORY | NCBC | PORT HUENEME | CA | 93043 | NAVY | 3010, 103a, 103c, 3016
CROWS LANDING NAVAL AIR LOGISTICS FORCE | NALF CROWS LANDING | CROWS LANDING | CA | 95313 | NAVY | 3010, 3016, 103c
IMPERIAL BEACH NAVAL COMMUNICATION STATION | OUTLYING LANDING FIELD BLDG 162 RT 75 & PALM AVE | IMPERIAL BEACH | CA | 92032 | NAVY | 3005, 3010, 103c, 103a
MONTEREY NAVAL POSTGRADUATE SCHOOL ANNEX | 1 GRACE HOPPER AVENUE | MONTEREY | CA | 93940 | NAVY | 3010
NAVAL WEAPONS STATION SEAL BEACH DETACHMENT FALLBROOK | 700 AMMUNITION RD | FALLBROOK | CA | 92028 | NAVY | 103c, 3016, 103a
OAKLAND NAVAL REGIONAL MEDICAL CENTER | 8750 MOUNTAIN BLVD | OAKLAND | CA | 94627 | NAVY | 3010, 103c, 3016
POINT SUR NAVAL FACILITY | NAVAL FACILITY POINT SUR | BIG SUR | CA | 93920 | NAVY | 3010, 103c
SALTON SEA TEST BASE | HWY 86 | SALTON CITY | CA | 92275 | NAVY | 103c, 3005, 3010
SAN DIEGO NAVAL FACILITIES ENGINEERING COMMAND | WESTERN DIVISION | SAN DIEGO | CA | 92136 | NAVY | 103c
SAN NICOLAS ISLAND OUTLYING LANDING FIELD |  | SAN NICOLAS ISLAND | CA | 93042 | NAVY | 3010
SANTA CRUZ NAVAL INDUSTRIAL RESERVE ORDNANCE PLANT | 16020 EMPIRE GRADE RD. | SANTA CRUZ | CA | 95060 | NAVY | 103c
SKAGGS ISLAND NAVAL SECURITY GROUP ACTIVITY | SKAGGS ISLAND | SONOMA | CA | 95476 | NAVY | 3010, 3016, 103c
ALAMEDA COAST GUARD SUPPORT CENTER | COAST GUARD GOVERNMENT ISLAND | ALAMEDA | CA | 94501 | TRANSPORTATION | 3010, 103c
FORT MACARTHUR | PACIFIC AVENUE | SAN PADRO | CA | 90731 | TRANSPORTATION | 103c
MIDDLETOWN COAST GUARD LORAN C STATION | LORAN C STATION | MIDDLETOWN | CA | 95461 | TRANSPORTATION | 103c
SAN FRANCISCO COAST GUARD BASE | YERBA BUENA ISLAND | SAN FRANCISCO | CA | 94130 | TRANSPORTATION | 3010, 103c
COLORADO SPRINGS ACADEMY | AFA/DE | COLORADO SPRINGS | CO | 80840 | AIR FORCE | 3010, 103c
LOWRY AIR FORCE BASE | 3415 CES/DE | LOWRY AFB | CO | 80230 | AIR FORCE | 3005, 3010, 3016, 103c, 103a
PETERSON AIR FORCE BASE | 1003 SSG/CC | PETERSON AFB | CO | 80914 | AIR FORCE | 3005, 3010, 103c
GRAND JUNCTION PROJECTS OFFICE | 3597 B-¾ RD PO 2567 | GRAND JUNCTION | CO | 81502-5504 | ENERGY | 3016, 103c, 3005, 3010
SOLAR ENERGY RESEARCH INSTITUTE | 1617 COLE BLVD. | GOLDEN | CO | 80401 | ENERGY | 3005, 3010, 3016, 103c
*WPA—POWER OPERATIONS | 1800 S. RIO GRANDE AVE | MONTROSE | CO | 81401 | ENERGY | 103c, 3010
NATIONAL ENFORCEMENT INVESTIGATION CENTER | DFC | DENVER | CO | 80225 | EPA | 3010, 103c
BLM—BOOKCLIFF LANDFILL | T1NR101WSEC6, UTEPM, 4 MI E. OF GRAND JUNCTION | GRAND JUNCTION | CO | 81501 | INTERIOR | 103c
BLM—CHAFFEE COUNTY LANDFILL | T.51.NR.8.E.SEC.21, US HWY 285 10M NORTH OF SALIDA | SALIDA | CO |  | INTERIOR | 103c
BLM—DELTA COUNTY LANDFILL | T14NR95WSEC 10, 6THPM | ECKERT | CO | 81418 | INTERIOR | 3010, 103c
BLM—EAGLE COUNTY LANDFILL | T4NR83WSEC10&11 |  | CO |  | INTERIOR | 103c
BLM—FREMONT | T48NR12ESEC19 | CATA PAXI | CO |  | INTERIOR | 103c
BLM—MONTROSE COUNTY DUMP | T48NR19WSEC22 | MONTROSE | CO |  | INTERIOR | 103c
BLM—ORCHARD MESA LANDFILL | T2SR1ESEC4,5 HWY 50-SW OF 29¾ RD | GRAND JUNCTION | CO | 81506 | INTERIOR | 103c
BLM—SAN MIGUEL LANDFILL #1 | T44NR15WSEC26 | NATAURITA | CO |  | INTERIOR | 103c
BLM—SAN MIGUEL LANDFILL #2 | T44NR17WSEC18 | SLICK ROCK | CO |  | INTERIOR | 103c
BLM—SAWPIT TRAM SITE (ORE STORAGE) | T43NR10WSEC18 | SAW PIT | CO | 81435 | INTERIOR | 103c
BLM—TOWN OF MESA LANDFILL | T10S, R96W, SEC22 | MOLINA | CO |  | INTERIOR | 103c
BR—LOVELAND | 910 VAN BUREN | LOVELAND | CO | 80537 | INTERIOR | 3010, 103c
GS—NATIONAL WATER QUALITY LABORATORY | 5293 WARD RD | DENVER | CO | 80225 | INTERIOR | 3010, 3016, 103c
NPS—DENVER SERVICE CENTER | 755 PARFET ST., BOX 25287 | DENVER | CO | 80225 | INTERIOR | 3016, 103c
NPS—ROCKY MOUNTAIN NATIONAL PARK | ESTES PARK | ESTES PARK | CO |  | INTERIOR | 103c, 3010
DENVER BULK MAIL CENTER | 7755 E. 56TH AVE | DENVER | CO | 80238 | POSTAL SERVICE | 3016, 103c
CENTRAL DIRECT FED. DIVISION MATERIALS—FHWA | 6TH ST., BLDG. 52, DFC | DENVER | CO | 80225 | TRANSPORTATION | 3005, 3010, 103c, 3016
TRANSPORTATION TEST CENTER | 21 MILES NE PUEBLO MEM AIRPORT | DOT TEST TRACK RD | CO | 81001 | TRANSPORTATION | 3005, 3010, 3016, 103c
STRATFORD ARMY ENGINE PLANT | 550 SOUTH MAIN STREET | STRATFORD | CT | 06497 | ARMY | 3005, 3010, 3016, 103c
KNOLLS ATOMIC POWER LABORATORY—WINDSOR SITE | PROSPECT HILL ROAD | WINDSOR | CT | 06095 | ENERGY | 3005, 3010, 3016, 103c, 103a
NEW LONDON NAVAL UNDERWATER SYSTEMS CENTER | NEW LONDON LABORATORY | NEW LONDON | CT | 06320 | NAVY | 3010, 103c, 103a
FORT MCNAIR | 350 P STREET, S.W | WASHINGTON | DC | 20319 | ARMY | 3010, 103c, 103a
U.S. SOLDIERS AND AIRMENS HOME | MICHIGAN AVE, N.E | WASHINGTON | DC | 20317 | DEFENSE | 3010, 3016, 103c
CUSTOMS FILED OFFICE | 1200 PENNSYLVANIA AVENUE | WASHINGTON | DC | 20004 | GENERAL SERVICES ADMINISTRATION | 3010, 103c
WASHINGTON NAVAL RESEARCH LABORATORY | 4555 OVERLOOK AVE | WASHINGTON | DC | 20375 | NAVY | 3005, 3010, 3016, 103c, 103a
BUREAU OF ENGRAVING & PRINTING | 14TH & C STS SW | WASHINGTON | DC | 20228 | TREASURY | 3005, 3010, 103c, 103a
CANAL SITE | MAIN ST, NORTH ST GEORGES | NEWCASTLE | DE | 19733 | CORPS OF ENGINEERS, CIVIL | 3016, 103c
WILDLIFE RESEARCH FIELD STATION | 2820 E UNIVERSITY AVE | GAINESVILLE | FL | 32601 | AGRICULTURE | 103c
AVON PARK AIR FORCE BASE | 56 COMBAT SUPPORT GROUP/DE | MACDILL AFB | FL | 33608 | AIR FORCE | 3005, 3010, 3016, 103c
MACDILL AIR FORCE BASE | 56 COMBAT SUPPORT GROUP/DE | MACDILL AFB | FL | 33608 | AIR FORCE | 3005, 3010, 3016, 103c, 103a
LYNN HAVEN DEFENSE FUEL SUPPORT POINT | W END OF 10TH STREET | LYNN HAVEN | FL | 32444 | DEFENSE LOGISTICS AGENCY | 3010, 3016, 103c
TAMPA DEFENSE FUEL SUPPORT POINT | BOX 13736 | TAMPA | FL | 33611 | DEFENSE LOGISTICS AGENCY | 3010, 3016, 103c
NAVAL AIR STATION KEY WEST | BLDG A827; BOCA CHICA KEY | KEY WEST | FL | 33040 | NAVY | 3005, 3010, 3016, 103c, 103a
NRL UNDERWATER SOUND REFERENCE DETACHMENT | 755 GATLIN AVE | ORLANDO | FL | 32806 | NAVY | 3010, 103c
PANAMA CITY COASTAL SYSTEMS STATION | HWY 98 CODE 631OMC | PANAMA CITY | FL | 32407 | NAVY | 3005, 3010, 3016, 103a, 103c
KEY WEST COAST GUARD STATION |  | KEY WEST | FL | 33040 | TRANSPORTATION | 3010, 103c
MAYPORT COAST GUARD BASE | PO BOX 385 | MAYPORT | FL | 32267 | TRANSPORTATION | 3010, 103c, 103a
MIAMI BEACH COAST GUARD BASE | 100 MACARTHUR CSWY | MIAMI BEACH | FL | 33139 | TRANSPORTATION | 3005, 3010, 103c
ST. PETERSBURG COAST GUARD STATION | 600 8TH AVE SE | ST PETERSBURG | FL | 33701 | TRANSPORTATION | 3010, 103c
TAMIAMI INTERNATIONAL FLIGHT SERVICE TRANSMITTER | WEST OF CHROME AVENUE | MIAMI | FL |  | TRANSPORTATION | 103a
DOBBINS AIR RESERVE BASE | 94 SPTG/CEV | DOBBINS AIR FORCE BASE | GA | 30069 | AIR FORCE | 3016, 103c, 3010
MOODY AIR FORCE BASE | 347 CSG/DE | MOODY AFB | GA | 31669 | AIR FORCE | 3005, 3010, 3016, 103c
PLANT #6 (LOCKHEED) | 86 S COBB DRIVE ZONE 54 | MARIETTA | GA | 30063 | AIR FORCE | 3005, 3010, 3016, 103c
FORT BENNING | GA, HWY 1 & US 27 | FORT BENNING | GA | 31905 | ARMY | 3005, 3010, 3016, 103c, 103a
FORT GILLEM | ATTN AFZK-EH-C | FOREST PARK | GA | 30330 | ARMY | 3005, 3010, 3016, 103c
FORT STEWART | 24TH INFANTRY DIV AFZP-DEN-E | FORT STEWART | GA | 31314 | ARMY | 3005, 3010, 3016, 103c
HUNTER ARMY AIRFIELD | 24TH INFANTRY DIV AFZP-DEN-E | FORT STEWART | GA | 31314 | ARMY | 3005, 3010, 3016, 103c
USA FORT GORDON & HQ USA | HQ US ARMY SIGNAL CENTER | FORT GORDON | GA | 30905 | ARMY | 3005, 3010, 3016, 103c, 103a
ATLANTA PENITENTIARY | 615 MCDONOUGH BLVD | ATLANTA | GA | 30315 | JUSTICE | 3016, 103c
KINGS BAY NAVAL SUBMARINE BASE | GA STATE HWY SPUR | KINGS BAY | GA | 31547 | NAVY | 3005, 3010, 3016, 103c, 103a
ATLANTA MEDICAL CENTER | 1670 CLAIRMONT ROAD | DECATUR | GA | 30033 | VETERANS AFFAIRS | 3005, 3010, 3016, 103c
VA MEDICAL CENTER | 1 FREEDOM WAY | AUGUSTA | GA | 30904 | VETERANS AFFAIRS | 3010
GUAM NAVAL HOSPITAL | NAVAL HOSP GUAM | NAVAL HOSP GUAM | GU | 96638 | NAVY | 103c, 3010
FWS—HOWLAND ISLAND NATIONAL WILDLIFE REFUGE | 300 ALA MOANA BLVD | HONOLULU | HI | 96813 | INTERIOR | 3016, 103c
WAPA—HINTON | PO BOX 1012 | HINTON | IA | 51024 | ENERGY | 3005, 3010, 3016, 103c
URBANDALE BULK MAIL CENTER | 4000 NW 19TH STREET | URBANDALE | IA | 50395 | POSTAL SERVICE | 3016, 103c, 3005
BOISE NF: KIRBY DAM MONARCH MINE STAMP MILL | T5N R11E S4&5 BOISE MERIDIAN | ATLANTA | ID | 83601 | AGRICULTURE | 103c, 3016
CARIBOU NF: PARIS WORK CENTER | 94 EAST 100 SOUTH | PARIS | ID | 83261 | AGRICULTURE | 3010, 103c
CLEARWATER NF: CLAYTON CREEK DUMP | T39N, R11E, SEC 21 | HEADQUARTERS | ID | 83534 | AGRICULTURE | 103c, 3016
FS—LAZY C H RANCH | STAR RT 1, 15 MI SW OF CITY | MONTPELIER | ID | 83254 | AGRICULTURE | 3010
IDAHO PANHANDLE NF: BIG CREEK BRIDGE | FS RD 2354, 8 MI SE OF CITY | KELLOGG | ID | 83837 | AGRICULTURE | 3010, 103c
IDAHO PANHANDLE NF: HUDLOW CAMP DUMP | FS RD 392, 30 MI NNE OF CITY | COEUR D'ALENE | ID | 83814 | AGRICULTURE | 3016, 103c
IDAHO PANHANDLE NF: PRIEST LAKE RS DUMP | SR 57, 4 MI S OF CITY | NORDMAN | ID | 83848 | AGRICULTURE | 103c
IDAHO PANHANDLE NF: SHOSHONE WORK CENTER DUMP | FS RD 208, 25 MI N OF CITY | KINGSTON | ID | 83839 | AGRICULTURE | 103c
SAWTOOTH NF: BLACK PINE HISTORIC MINE TAILINGS | 65 MI SE OF CITY/15 MI W OF I-84 EXIT 263 | BURLEY | ID | 83318 | AGRICULTURE | 103c
SHEEP EXPERIMENT STATION | 115 N | DUBOIS | ID | 83423 | AGRICULTURE | 3016, 103c
SOIL AND WATER MANAGEMENT RESEARCH UNIT | ROUTE 1, BOX 186, 3600 EAST | KIMBERLY | ID | 83341 | AGRICULTURE | 3016, 103c
TARGHEE NF: SNAKE RIVER WORK CENTER | HWY 26 5 MI W OF CY | SWAN VALLEY | ID | 83449 | AGRICULTURE | 3016, 103c
BOISE AIR NATIONAL GUARD-GOWEN FIELD | 43D33M00SN, 116D13M00SW | BOISE | ID | 83705 | AIR FORCE | 3005, 3010, 103c, 3016
BLM—BLACK MESA DUMP | T6S, R10E, SEC13 | GLENNIS FERRY | ID | 83623 | INTERIOR | 103c
BLM—BLUE DOME UNAUTHORIZED DUMP | HWY 28, T10N R30E S30 | BLUE DOME | ID | 83464 | INTERIOR | 103c, 3016
BLM—BROWNS GULCH | T6S, R7E, SEC 10, W½ | BRUNEAU | ID | 83604 | INTERIOR | 103c
BLM—BRUNEAU OPEN DUMP | T9S, R5E, SEC 4 | BRUNEAU | ID | 83604 | INTERIOR | 3016, 103c
BLM—BUTTE NORTH ISOLATED TRACT HAZARDOUS SITE | T12S, R21E, SEC 5 | BURLEY | ID | 83318 | INTERIOR | 103c
BLM—CASSIA COUNTY #1 | T13S, R21E, SEC 13 | OAKLEY | ID | 83346 | INTERIOR | 103c
BLM—CASSIA COUNTY #2 | T12S, R21E, SEC 32 | OAKLEY | ID | 83346 | INTERIOR | 103c
BLM—CASSIA COUNTY #3 | T12S, R21E, SEC 31 | OAKLEY | ID | 83346 | INTERIOR | 103c
BLM—CASTLEFORD BUTTE | T10S, R12E, SEC 23 | CASTLEFORD | ID | 83321 | INTERIOR | 103c
BLM—CEDAR BUTTE S. END DUMPSITE | T23S R32E S15 | ROCKFORD | ID | 83221 | INTERIOR | 103c
BLM—CENTRAL COVE LANDFILL | T3N, R4W, SEC 8 AND 9 | CALDWELL | ID | 83605 | INTERIOR | 3016, 103c
BLM—CLARKS AIR SERVICE AIRSTRIP-JARBRIDGE RA | T6S, R9E, SEC 27 | GLENNS FERRY | ID | 83623 | INTERIOR | 103c, 3016
BLM—CLOVER HOLLOW ILLEGAL AIRSTRIP | T5S R7E SEC 7 SESW 8 MI S OF CY | MOUTAIN HOME | ID | 83647 | INTERIOR | 103c
BLM—COURIER GULCH | 0.3 MI N OF CITY | TRIUMPH | ID | 83333 | INTERIOR | 103c
BLM—COW HOLLOW HAZARDOUS WASTE DUMP | T14S R31E S34 | JUNIPER | ID | 83346 | INTERIOR | 103c
BLM—CREAM CAN JUNCTION | T5S R26E S35 SW¼ SW¼ BM | MINIDOKA | ID | 83343 | INTERIOR | 3010
BLM—DELAMAR SILVER MINE | T15S R35E S4-9, 8 MI W OF CITY | SILVER CITY | ID | 83650 | INTERIOR | 103c
BLM—DOBSON PASS | T48N R4E S1 LOT 9 | WALLACE | ID | 83873 | INTERIOR | 3010
BLM—DRY LAKES AIR SERVICE AIRSTRIP—CASCADE RA | T1N R3W S26 | MELBA | ID | 83641 | INTERIOR | 103c
BLM—EDMONDS UNAUTHORIZED DUMP | T7N R38E SEC 24 & 25 | EDMONDS | ID | 83445 | INTERIOR | 103c
BLM—GEM COUNTY LANDFILL | DEWEY LAND, 10M EAST OF EMMETT | EMMETT | ID | 83617 | INTERIOR | 103c
BLM—GERMAN LAKE | T7S R25E SEC 10 | MINIDOKA | ID | 83343 | INTERIOR | 103c, 3016
BLM—GRACE ILLEGAL DUMP | T10S R39E S24 NE SE NE | GRACE | ID | 83241 | INTERIOR | 103c
BLM—HAMMETT DUMP | T5S R9E S28 SE NE | HAMMETT | ID | 83627 | INTERIOR | 103c
BLM—HELL'S HALF ACRE—EAST FINGER DUMP | T1S R36E S4, 2.3 MI FROM JUNCTION OF BASELINE AND LAVA ROADS | FIRTH | ID | 83236 | INTERIOR | 103c
BLM—HELL'S HALF ACRE—WEST FINGER DUMP | TIS R36E S32, 3.5 MI W OF SHELLEY | FIRTH | ID | 83236 | INTERIOR | 103c
BLM—HOFF ROAD SITE | T2S R32E SEC T35 SW OF SW | BLACKFOOT | ID | 83221 | INTERIOR | 3010, 103c
BLM—HULET DUMP | T3S R1E S15 NE NE | MURPHY | ID | 83650 | INTERIOR | 103c, 3016
BLM—HWS GOLD & SILVER MINE ELK CITY | T29N R8E S23 | ELK CITY | ID | 83525 | INTERIOR | 3016, 103c
BLM—JEROME COUNTY LANDFILL | T8S R17E S14, 4 MI W OF CITY | JEROME | ID | 83338 | INTERIOR | 103c
BLM—LESLIE DUMP SITE-1 | T7N R25E S34, 1.5 MI N OF CITY | LESLIE | ID | 83249 | INTERIOR | 103c
BLM—LESLIE DUMP SITE-4 SW | T6N R24E S18, 4 MI SW OF CITY | LESLIE | ID | 83249 | INTERIOR | 103c
BLM—LIBERTY DUMP | T3S R33E S19, 20, 21 & 30, 5 MI SW OF CITY | LIBERTY | ID | 83221 | INTERIOR | 103c
BLM—MENAN UNAUTORIZED DUMP | T6N R38E S27 SE1/4 | MADISON | ID | 83440 | INTERIOR | 103c
BLM—MONTVIEW | T8N, R34E, SEC22, NWNW E OF CITY | MONTVIEW | ID | 83435 | INTERIOR | 103c
BLM—MORGAN'S PASTURE | T1N R35E SEC 33 & 34 | SHELLY | ID | 83274 | INTERIOR | 3010, 103c
BLM—MUD LAKE AIRPORT | T6N R34E SECT 18 NE OF NE | MUD LAKE | ID | 83450 | INTERIOR | 3010, 103c
BLM—NATIONAL GUARD IMPACT AREA | SEC (ALL) T2&3S, R2&3E | UNINCORP | ID | 83709 | INTERIOR | 103c, 3016
BLM—NORTH CREEK MILL | T6NR29ESEC6 | HOWE | ID | 83244 | INTERIOR | 103c
BLM—OWYHEE CO. GRANDVIEW LANDFILL | T6SR4ESEC14 | BRUNEAU | ID | 83604 | INTERIOR | 103c
BLM—OWYHEE CO. MARSING/HOMEDALE LANDFILL | JOHNSON RD. T4N R5W S32 SW 1/4 | MARSING—HOMEDALE | ID | 83639 | INTERIOR | 103c
BLM—OWYHEE CO. WILSON CREEK LANDFILL | T1SR34ESEC13 | MARSING | ID | 83639 | INTERIOR | 103c
BLM—PRESTICIDE DUMP MURPHY | T3S R1W S35 | MURPHY | ID | 83650 | INTERIOR | 103c
BLM—PESTICIDE DUMP REYNOLDS | T2S R3W S31 | REYNOLDS | ID | 83650 | INTERIOR | 103c
BLM—PICKLES BUTTE (DAVIDSON'S AIR SERVICE) | T2NR3WSEC28 MISSOURI AV 2.5MI W—MORA CANAL | NAMPA | ID | 83651 | INTERIOR | 103c
BLM—REEDER FLYING SERVICE AIRSTRIP #1 | T6SR12ESEC33 | GLENNS FERRY | ID | 83623 | INTERIOR | 103c
BLM—REEDER FLYING SERVICE AIRSTRIP #2 | T9S R12E S13 W1/2 SE 1/4 | BUHL | ID | 83316 | INTERIOR | 103c
BLM—REEDER FLYING SERVICE AIRSTRIP #3 | T8S, R13E, SEC6 | GLENNS FERRY | ID | 83623 | INTERIOR | 103c, 3010, 3005
BLM—SHOSHONE (GWINN CAVE) | T4S R17E S14 | SHOSHONE | ID | 83352 | INTERIOR | 3016, 103c
BLM—SPRINGFIELD UNAUTHORIZED DUMPSITE | T3S R32E S15, 6 MI N OF CITY | SPRINGFIELD | ID | 83277 | INTERIOR | 103c
BLM—TWIN FALLS CO #4 | T12S R19E S11 | MURTAUGH | ID | 83344 | INTERIOR | 103c
BLM—TWIN FALLS CO #5 | T12S R19E S12 | MURTAUGH | ID | 83344 | INTERIOR | 103c
BLM—TWIN FALLS CO MURTAUGH (EAST) LANDFILL | T11S R19E S10 | MURTAUGH | ID | 83344 | INTERIOR | 103c, 3016
BLM—UPPER LITTLE LOST UNAUTHORIZED DUMP | T11N R26E S10, 12 MI NW OF CITY | CYLDE | ID | 83244 | INTERIOR | 103c
BLM—WARRIOR ROAD | T35N R1W S11, NEAREST CITY KUNA | KONA | ID | 83634 | INTERIOR | 103c
BLM—WIREGRASS RESERVOIR SITE | TIIS R36E SECT 13 NW OF NE | DOWNEY | ID | 83234 | INTERIOR | 3010, 103c
BR—MINIDOKA DAM | 13 MI NE OF CY | RUPERT | ID | 83350 | INTERIOR | 3010, 3016, 103c
BR—MINIDOKA LANDFILL | T9S R23E S3, 4.5 MI NW OF CITY | RUPERT | ID | 83343 | INTERIOR | 103c
NPS—CRATERS OF THE MOON: MARTIN MINE | 15 MI SW OF CITY ON HWY 93 | ARCO | ID | 83213 | INTERIOR | 103c
BAYVIEW NAV SURFACE WARFARE CTR/CARDEROCK DIV DET | HWY 54 & MAIN AVE | BAYVIEW | ID | 83083 | NAVY | 103c, 3010
CHICAGO SITE | CALUMET HARBOR | CHICAGO | IL | 60606 | CORPS OF ENGINEERS, CIVIL | 3010
NORTH RIVERSIDE ARMY MAINTENANCE CENTER | 8660 WEST CERMAK RD | NORTH RIVERSIDE | IL | 60546 | CORPS OF ENGINEERS, CIVIL | 3016
FERMI NATIONAL ACCELERATOR LABORATORY | KIRK RD & PINE ST PO BOX 500 | BATVAIA | IL | 60510 | ENERGY | 3005, 3010, 3016, 103c
DANVILLE MEDICAL CENTER HOSPITAL | 1900 E MAIN ST | DANVILLE | IL | 61832 | VETERANS AFFAIRS | 103c, 3010
NEWPORT ARMY AMMUNITION PLANT | STATE RTE 63 2 MILES S. OF NEWPORT VERMILLION COUNTY | NEWPORT | IN | 47966 | ARMY | 3005, 3010, 3016, 103c
NEW HAVEN DEFENSE LOGISTICS AGENCY DEPOT | STATE RT. 14 | NEW HAVEN | IN | 46774 | DEFENSE LOGISTICS AGENCY | 3010, 103c
REGION 7, ENVIRONMENTAL SERVICES DIVISION LAB | 25 FUNSTON ROAD | KANSAS CITY | KS | 66115 | EPA | 3005, 3010, 3016, 103c
LEXINGTON—BLUEGRASS ARMY DEPOT | HALEY RD | LEXINGTON | KY | 40511 | ARMY | 3005, 3010, 3016, 103c, 103a
USAARMC & FORT KNOX | US HWY 32 WEST | FORT KNOX | KY | 40121 | ARMY | 3005, 3010, 3016, 103a, 103c
FORMER NAVAL ORDANCE STATION LOUISVILLE | 118 ROCHESTER DR | LOUISVILLE | KY | 40214 | NAVY | 3005, 3010, 3016, 103c
SOUTHERN REGIONAL RESEARCH CENTER | 1100 ROBERT E. LEE BLVD | NEW ORLEANS | LA | 70124 | AGRICULTURE | 3010, 3016, 103c
ENGLAND AIR FORCE BASE | 23 CSG/DE | ENGLAND AFB | LA | 71311 | AIR FORCE | 3005, 3010, 3016, 103c
NEW ORLEANS MILITARY OCEAN TERMINAL | 4400 DAUPHINE ST | NEW ORLEANS | LA | 70145 | ARMY | 103c
SPR—WEEKS ISLAND | 2 MI NW OF CYPREMONT | CYPREMONT | LA | 70560 | ENERGY | 103c
SPR—WEST HACKBERRY | 3.8 MI W OF HACKBERRY, HWY 390 | HACKBERRY | LA |  | ENERGY | 103c
FWS—LACASSINE NATIONAL WILDLIFE REFUGE | HCR 63, BOX 186 | LAKE ARTHUR | LA | 70549 | INTERIOR | 103c
NEW ORLEANS NAVAL SUPPORT ACTIVITY | 2600 GEN MEYER AVE BLDG 101 | NEW ORLEANS | LA |  | NAVY | 103c, 3010
NEW ORLEANS COAST GUARD BASE | 4640 URQUHART STREET | NEW ORLEANS | LA | 70117 | TRANSPORTATION | 3010, 103c
NEW ORLEANS MEDICAL CENTER | 1601 PERDIDO STREET | NEW ORLEANS | LA | 70112 | VETERANS AFFAIRS | 3010, 103c
BOSTON POSTAL SERVICE | 135 A STREET | BOSTON | MA | 02210 | POSTAL SERVICE | 3010, 103c
WOODS HOLE COAST GUARD BASE | LITTLE HARBOR ROAD | FALMOUTH | MA | 02543 | TRANSPORTATION | 3010, 103c
ANNAPOLIS NAVAL ACADEMY | ANNAPOLIS NAVAL COMPLEX | ANNAPOLIS | MD | 21402 | NAVY | 3005, 3010, 3016, 103c
CASCO BAY DEFENSE FUEL SUPPORT POINT | RT 123 | SOUTH HARPSWELL NECK | ME | 04079 | DEFENSE LOGISTICS AGENCY | 3010, 3016, 103c
SEARSPORT DEFENSE FUEL SUPPORT POINT | TRUNDY ROAD BOX 112 | SEARSPORT | ME | 04974 | DEFENSE LOGISTICS AGENCY | 3010, 3016, 103c
FWS—SEAL ISLAND NATIONAL WILDLIFE REFUGE | P.O. BOX 1077 | CALAIS | ME | 04619 | INTERIOR | 103c
GOULDSBORO NAVAL SECURITY GROUP ACTIVITY | BLDG 41 (OPERATIONS SITE) | GOULDSBORO | ME | 04624 | NAVY | 103c
NAVAL SECURITY GROUP ACTIVITY WINTER HARBOR | 10 FABBRI GREEN STE 10 | WINTER HARBOR | ME | 04693 | NAVY | 3010, 103c
HIAWATHA NF: MUNISING LANDFILL | T46N R18W S19 SW¼ | MUNISING TOWNSHIP | MI | 49829 | AGRICULTURE | 103c, 3016
HURON—MANISTEE NF: WHITE CLOUD | 12 N CHARLES AVE | WHITE CLOUD | MI | 49349 | AGRICULTURE | 103c, 3010, 3016
PHELPS/COLLINS AIRPORT | AIRPORT ROAD | ALPENA | MI | 49707 | AIR FORCE | 3010, 3016, 103a, 103c
TANK AUTOMOTIVE COMMAND | 6501 E. 11 MILE RD, MACOMB COUNTY | WARREN | MI | 48090 | ARMY | 3005, 3010, 3016, 103c, 103a
LAKESHORE TERMINAL COMPANY, HARRISVILLE DFSP | US HWY 23 | HARRISVILLE | MI | 48740 | DEFENSE | 103c, 3010
ANN ARBOR MOTOR VEHICLE EMISSION LABORATORY | 2565 PLYMOUTH RD, WASHTENAW COUNTY | ANN ARBOR | MI | 48105 | EPA | 3010, 103c
FAA—PECK VOR | 2250 E PECK RD | CROSWELL | MI | 48422 | TRANSPORTATION | 3010
BATTLE CREEK MEDICAL CENTER | 5600 ARMSTRONG RD | BATTLE CREEK | MI | 49016 | VETERANS AFFAIRS | 3010
MINNEAPOLIS ST. PAUL BULK MAIL CENTER | 3165 S. LEXINGTON AVE | ST. PAUL | MN | 55121 | POSTAL SERVICE | 3010, 103c
DULUTH COAST GUARD STATION | 1201 MINNESOTA AVE | DULUTH | MN | 55802 | TRANSPORTATION | 3010, 3016, 103c
FDA—KANSAS CITY SITE | 1009 CHERRY ST | KANSAS CITY | MO | 64106 | AGRICULTURE | 3010
SCHUSTER FARM | T55N R33W S58 S17 | GOWER | MO | 64454 | AGRICULTURE | 103c
MO AVIATION CLASSIFICATION & REPAIR ACTIVITY DEPOT | 2501 LESTER JONES AVE | SPRINGFIELD | MO | 65803 | ARMY | 103c, 3010
MOBILE INCINERATOR—DEMMRY FARM | SE ¼ NW ¼ NW ¼ SEC 20 | MCDOWELL | MO | 65769 | EPA | 3010, 103c, 3016, 3005
NPS—NOLAND HOUSE | 216 N DELAWARE | INDEPENDENCE | MO | 64052 | INTERIOR | 3010
COLUMBUS AIR FORCE BASE | US HWY 45 NORTH | COLUMBUS AFB | MS | 39701 | AIR FORCE | 3005, 3010, 3016, 103c, 103A
ENGINEERING ENVIRONMENTAL WATERWAY LABORATORY | PO BOX 631 | VICKSBURG | MS | 39180 | ARMY | 3005, 3010, 3016, 103c
GRENADA | YOUNGS LANDING | GRENADA | MS | 38901 | CORPS OF ENGINEERS, CIVIL | 103a
GULFPORT NAVAL CONSTRUCTION BATTALION CENTER | 5200 CBC 2ND STREET | GULFPORT | MS | 39501 | NAVY | 3010, 103c, 103a
FORT KEOGH LIVESTOCK AND RANGE RESEARCH LABORATORY | ROUTE 1, BOX 2021 | MILES CITY | MT | 59301 | AGRICULTURE | 3016, 103c
MALMSTROM AIR FORCE BASE | FACILITY 1501 PERIMETER RD | GREAT FALLS | MT | 59402 | AIR FORCE | 3005, 3010, 3016, 103c, 103a
BPA—HOT SPRINGS SUBSTATION TLM COMPLEX | HWY 28, S. OF HOT SPRINGS, SEC 14 T21N RW | HOT SPRINGS | MT | 59845 | ENERGY | 103c
BLM—ILLEGAL AIRSTRIP JOHN GREYTAK | SECTION 6 T11N R27E | FLATWILLOW | MT |  | INTERIOR | 103c
BLM—JET FUEL REFINERY SITE | T14N R31E 4 MI E OF MOSBY | MOSBY | MT | 59058 | INTERIOR | 103c, 3010
BLM—ROUNDUP LANDFILL | 1.5 MILES NORTHWEST OF ROUNDUP | ROUNDUP | MT |  | INTERIOR | 103c
BLM—SLUICE GULCH LEAKING ADIT | T6S R15W SEC 5 |  | MT |  | INTERIOR | 103c
BLM—STEAMBOAT POINT | T25N R10E SEC 18 PMM | LOMA | MT |  | INTERIOR | 103c
BLM—THORIUM CITY WASTE DUMP | T105 R15W SEC 21, 22, 27, 28 | GRANT | MT | 59734 | INTERIOR | 3016, 103c
BLM—TUNGSTEN MILL TAILINGS | T45W 9W SEC 4, 5, 9 | GLEN | MT | 59732 | INTERIOR | 103c
FWS—CHARLES M. RUSSEL NATIONAL WILDLIFE REFUGE | P.O. BOX 110 | LEWISTOWN | MT | 59457 | INTERIOR | 3010, 103c
FWS—NATIONAL BISON RANGE | CNTY RD 212 IN MOIESE | MOIESE | MT | 59824 | INTERIOR | 3010, 103c
LYONS STATION | 45 MI. SO OF ENNIS ON HWY 287 | ENNIS | MT | 59749 | INTERIOR | 3010, 103c
WEST FORK RANGER STATION | 15 MILES SOUTH OF DARBY MT ON | WEST FORK RS | MT | 59829 | INTERIOR | 3010, 103c
POPE AIR FORCE BASE | 43 CES/CEV 560 INTERCEPTOR RD | POPE AIR FORCE BASE | NC | 28308 | AIR FORCE | 3005, 3010, 103c, 3016
ALBEMARLE ARMY RESERVE CENTER | 1816 E MAIN ST | ALBEMARLE | NC | 28001 | ARMY | 3010, 103c
ASHEVILLE ARMY RESERVE CENTER | 224 LOUISIANA | ASHEVILLE | NC | 28806 | ARMY | 3010, 103c
BREVARD ARMY RESERVE CENTER | E FRENCH BROAD ST | BREVARD | NC | 28712 | ARMY | 3010, 103c
CHARLOTTE #1 ARMY RESERVE CENTER | 1300 WESTOVER DR | CHARLOTTE | NC | 28205 | ARMY | 3010, 103c
DURHAM #1 ARMY RESERVE CENTER | 1228 CARROL ST | DURHAM | NC | 27701 | ARMY 3010, 103c
DURHAM #2 ARMY RESERVE CENTER | 724 FOSTER ST | DURHAM | NC | 27701 | ARMY | 3010, 103c
GARNER ARMY RESERVE ­CENTER | 2017 GARNER ST | GARNER | NC | 27529 | ARMY | 3010, 103c
GREENSBORO ARMY RESERVE CENTER | 1120 CHURCH ST | GREENSBORO | NC | 27405 | ARMY | 3010, 103c
GREENVILLE ARMY RESERVE CENTER | 1391 N MEM DR | GREENVILLE | NC | 27834 | ARMY | 3010, 103c
HICKORY ARMY RESERVE CENTER | 1500 12TH STREET NW | HICKORY | NC | 28601 | ARMY | 3010, 103c
HIGH POINT ARMY RESERVE CENTER | 156 PARRIS AVE | HIGH POINT | NC | 28307 | ARMY | 3010, 103c
LUMBERTON ARMY RESERVE CENTER | 1400 CARTHAGE RD | LUMBERTON | NC | 28358 | ARMY | 3010, 103c
MOREHEAD CITY ARMY RESERVE CENTER | 405 FISHER ST | MOREHEAD CITY | NC | 28557 | ARMY | 3010, 103c
RALEIGH ARMY RESERVE CENTER | 3115 WESTERN BLVD | RALEIGH | NC | 27606 | ARMY | 3005, 3010, 103c
ROCKY MOUNT ARMY RESERVE CENTER | 804 FAIRVIEW RD | ROCKY MOUNT | NC | 28701 | ARMY | 3010, 103c
SALISBURY ARMY RESERVE CENTER | 1825 WOODLEAF RD, PO BOX 1927 | SALISBURY | NC | 28114 | ARMY | 3010, 103c
TARHEEL ARMY MISSILE PLANT | 204 GRAHAM-HOPEDALE ROAD | BURLINGTON | NC | 27215 | ARMY | 103c
WILMINGTON ARMY RESERVE CENTER | 2144 LAKESHORE DR | WILMINGTON | NC | 28401 | ARMY | 3010, 103c
NATIONAL INSTITUTE OF ENVIRONMENTAL HEALTH SCIENCE | S ON ALEXANDER DR | RESEARCH TRIANGLE PARK | NC | 27709 | HEALTH AND HUMAN SERVICES | 3005, 3010, 103c
BOGUE BURN PIT MARINE CORPS AUXILARY LANDING BOGU | MCALF BOGUE | MOREHEAD CITY | NC | 28557 | NAVY | 3016, 103c
HARVEY POINT DEFENSE TESTING ACTIVITY | RT 5 | HERTFORD | NC | 27944 | NAVY | 103c, 3010
FAA—RALEIGH DURHAM INTERNATIONAL AIRPORT |  | RALEIGH | NC |  | TRANSPORTATION | 103a
FORT MACON COAST GUARD STATION | PO BOX 237 | ATLANTIC BEACH | NC | 28512 | TRANSPORTATION | 3010, 103c
NORTH DAKOTA AGRICULTURAL EXPERIMENT STATION | 1605 W. COLLEGE ST | FARGO | ND | 58105 | AGRICULTURE | 3010, 3016, 103c
NORTHERN GREAT PLAINS RESEARCH LABORATORY | PO BOX 459, HWY 6 S | MANDAN | ND | 58554 | AGRICULTURE | 3016, 103c
MINOT AIR FORCE BASE | 41 CSG/CC | MINOT AFB | ND | 58705 | AIR FORCE | 3005, 3010, 3016, 103c
GRAND FORKS DEFENSE FUEL SUPPORT POINT | GRAND FORKS AFB 42ND STREET | GRAND FORKS | ND | 58201 | DEFENSE LOGISTICS AGENCY | 3010, 3016, 103c
SECTION 5 IMPOUNDMENT | SW ¼ NW ¼ SE ¼ OF SEC 5 | GLENVIL TOWNSHIP | NE |  | AGRICULTURE | 103c
BAYONNE MILITARY OCEAN TERMINAL | FOOT OF 32ND STREET | BAYONNE | NJ | 07002 | ARMY | 3005, 3010, 3016, 103c, 103a
BRITTON ARMY RESERVE CENTER | 39TH ST & FEDERAL ST | CAMDEN | NJ | 08105 | ARMY | 3010, 103c
CAVEN POINT ARMY RESERVE CENTER | 1 CHAPEL AVENUE | JERSEY CITY | NJ | 07305 | ARMY | 3010, 103c
FORT MONMOUTH | TINTON & PINEBROOK | TINTON FALLS | NJ | 07724 | ARMY | 3010, 3016, 103c, 103a
FORT MONMOUTH EVANS AREA #1 | MARCONI ROAD | WALL TOWNSHIP | NJ | 07719 | ARMY | 3010, 3016, 103c
KILMER ARMY RESERVE CENTER | BLDG 1007 | EDISON | NJ | 08817 | ARMY | 3010
PEDRICKTOWN SUPPORT FACILITY | ROUTE 130 & ARTILLERY AVE | PEDRICKTOWN | NJ | 08067 | ARMY | 3010, 103c
STORCH ARMY RESERVE CENTER | SHORE RD & DOLPHIN NORTHFIELD | NORTHFIELD | NJ | 08225 | ARMY | 3010, 103c
STRYKER ARMY RESERVE CENTER | 2150 NOTTINGHAM WAY | TRENTON | NJ | 08619 | ARMY | 3010, 103c
NOAA/NMFS/NEFC | SANDY HOOK LABORATORY | HIGHLANDS | NJ | 07732 | COMMERCE | 3005, 3010, 103c
NEW BRUNSWICK LABORATORY-ERDA | 986 JERSEY AVENUE | NEW BRUNSWICK | NJ | 08903 | ENERGY | 3016, 103c
RARITAN DEPOT | 4700 WOODBRIDGE AVENUE | EDISON | NJ | 08817 | EPA | 3005, 3010, 3016, 103c
CLARKSON FISHER FEDERAL BUILDING & COURTHOUSE | 402 E STATE ST | TRENTON | NJ | 08608 | GENERAL SERVCIES ADMINISTRATION | 3010
RARITAN DEPOT | 4700 WOODBRIDGE AVENUE | EDISON | NJ | 08817 | GENERAL SERVICES ADMINISTRATION | 3005, 3010, 3016, 103c
SOMERVILLE DEPOT | ROUTE 206 | SOMERVILLE | NJ | 08876 | GENERAL SERVICES ADMINISTRATION | 103c, 3010
FWS—BARNEGAT DIVISION, EDWIN B. FORSYTHE NWR | PO BOX 544 | BARNEGAT | NJ | 08005 | INTERIOR | 3016, 103c
FWS—GREAT SWAMP NATIONAL WILDLIFE REFUGE | RD 1, BOX 152 | BASKING RIDGE | NJ | 07920 | INTERIOR | 3016, 103c, 3010
NPS—GATEWAY NATIONAL RECREATIONAL AREA | FORT HANCOCK | SANDY HOOK-BROOKLYN | NJ | 07732 | INTERIOR | 3010, 3016, 103c
NPS—MORRISTOWN NATIONAL HISTORICAL PARK | WASHINGTON PLACE | MORRISTOWN | NJ | 07960 | INTERIOR | 103c
TRENTON NAVAL AIR WARFARE CENTER, AIRCRAFT DIV | PARKWAY AVE | TRENTON | NJ | 08628 | NAVY | 3005, 3010, 3016, 103c, 103a
BELLMAWR VEHICLE MAINTENANCE FACILITY | 421 BENIGNO BLVD & HAAG AVE | BELLMAWR | NJ | 08099 | POSTAL SERVICE | 3010
SANDY HOOK COAST GUARD STATION | HARTSHORNE DRIVE | HIGHLANDS | NJ | 07732 | TRANSPORTATION | 3010, 103c
EAST ORANGE MEDICAL CENTER | TREMONT AVE | EAST ORANGE | NJ | 07019 | VETERANS AFFAIRS | 3010, 103c
HILLSBOROUGH SUPPLY DEPOT | ROUTE 206 | HILLSBOROUGH TWP | NJ | 08853 | VETERANS AFFAIRS | 103c, 3010
LYONS HOSPITAL | KNOLLCRAFT ROAD | LYONS | NJ | 07939 | VETERANS AFFAIRS | 3010, 103c
CIBOLA NF: COBB RESOURCES CORPORATION | CIBOLA NATIONAL FOREST | MAGDALENA | NM | 87825 | AGRICULTURE | 103c, 3016
JORNADA EXPERIMENTAL RANGE | 1700 JORNADA ROAD | LAS CRUCES | NM | 88001 | AGRICULTURE | 3016
LINCOLN NF: HIGH ROLLS MINING DISTRICT | 3.3 M S OF INTER. OF W US 82 | HIGH ROLLS | NM | 88325 | AGRICULTURE | 103c, 3016
SANTA FE NF: LA BAJADA MINE | 1.25 MI UPSTREAM FROM LA BAJADA | LA BAJADA | NM |  | AGRICULTURE | 103c
MELROSE RANGE | 25 MI W OF CANNON AFB | MELROSE | NM | 88124 | AIR FORCE | 3005, 3010, 3016
FORT WINGATE DEPOT ACTIVITY | 10 MILES EAST OF GALLUP ON I-10 | GALLUP | NM | 87310 | ARMY | 3005, 3010, 3016, 103c
GASBUGGY | T29N, R4W, S36; 55 M E. OF FARMINGTON | DULCE (NEAR) | NM |  | ENERGY | 103c
LOVELACE INHALATION TOXICOLOGY RESEARCH INSTITUTE | BLDG. 9200, KIRTLAND AFB EAST | ALBUQUERQUE | NM | 87185 | ENERGY | 103c, 3016, 3010
BLM—AMAX CHEMICAL COMPANY | EDDY COUNTY | ARTESIA | NM | 88201 | INTERIOR | 103c, 3016
BLM—ANTHONY LANDFILL | T26S, R4E SEC30 NW¼ + E½ OF LOT 2 | ANTHONY | NM | 88021 | INTERIOR | 103c, 3016
BLM—ARTESIA LANDFILL | T17SR25ESEC10 | ARTESIA | NM | 88210 | INTERIOR | 103c, 3016
BLM—BLANCO LANDFILL | T29NR10WSEC13 | BLANCO | NM | 87412 | INTERIOR | 103c, 3016
BLM—BLOOMFIELD LANDFILL | T29N, R11W, SEC34 | BLOOMFILED | NM | 87413 | INTERIOR | 3016, 103c
BLM—BLUE CANYON ALLOTMENT | T20SR5WSEC8 | HATCH | NM | 87937 | INTERIOR | 103c, 3016
BLM—CARLSBAD LANDFILL | T21S, R27E, S27, W .5, SE¼, SW¼ | CARLSBAD | NM | 88220 | INTERIOR | 103c, 3016
BLM—CHAPARRAL LANDFILL | T26SR5ESEC14 | CHAPARRAL | NM |  | INTERIOR | 103c, 3016
BLM—EDDY POTASH COMPANY | 3071 POTASH MINE ROAD | CARLSBAD | NM | 88220 | INTERIOR | 103c, 3016
BLM—ESPANOLA LANDFILL | T20N R9E SEC 6N MPH | ESPANOLA | NM | 87532 | INTERIOR | 103c, 3016
BLM—HATCH LANDFILL | T19S, R3W, SEC4, LOT1 | HATCH | NM | 87937 | INTERIOR | 103c, 3016
BLM—HILL LANDFILL | T22SR1ESECS3&4NMPH | HILL | NM |  | INTERIOR | 103c, 3016
BLM—HYDE MINE | 35/32/46 & 108/41/26 | GALLUP | NM | 87301 | INTERIOR | 103c, 3016
BLM—INTERNATIONAL MINERAL AND CHEMICAL | P.O. BOX 71 | CARLSBAD | NM | 88220 | INTERIOR | 103c, 3016
BLM—KERR MCGEE POTASH COMPANY | LEE COUNTY | HOBBS | NM | 88240 | INTERIOR | 103c
BLM—KIRTLAND LANDFILL | T30NR14WSEC31 | KIRTLAND | NM | 87412 | INTERIOR | 3016, 103c
BLM—MESA LANDFILL | T25S, R2E, SEC34 | LA MESA | NM | 88044 | INTERIOR | 103c, 3016
BLM—LA UNION LANDFILL | T27SR3ESEC18 DONA ANA CO | LA UNION | NM | 88021 | INTERIOR | 3016, 103c
BLM—LAS CRUCES LANDFILL | T23SR2ESEC11 | LAS CRUCES | NM | 88001 | INTERIOR | 3016, 103c
BLM—LEMITAR LANDFILL | T2SR1WSECS13&24 | LEMITAR | NM |  | INTERIOR | 103c, 3016
BLM—MESILLA DAM LANDFILL | T24W, R1E, SEC14 | MESILLA | NM | 88046 | INTERIOR | 103c, 3016
BLM—MESQUITE LANDFILL | T24SR3ESEC29NMPH | MESQUITE | NM |  | INTERIOR | 103c, 3016
BLM—NATIONAL POTASH COMPANY | EDDY & LEE COUNTYS | CARLSBAD | NM | 88220 | INTERIOR | 103c, 3016
BLM—OROGRANDE LANDFILL | T22SR8ESEC14SWSESW | OROGRANDE | NM |  | INTERIOR | 103c, 3016
BLM—SAN ANTONIO LANDFILL | T5SR1ESEC6NMPH | SAN ANTONIA | NM |  | INTERIOR | 103c, 3016
BLM—SOUTH FARMINGTON LANDFILL | T29, R13W, SEC20 | FARMINGTON | NM | 87401 | INTERIOR | 3016, 103c
BLM—STANDARD TRANSPIPE CORP. | SO. OF ALAMOGORDO, NM ON HWY 54 | ALAMOGORDO | NM | 88310 | INTERIOR | 103c, 3016
BLM—THOREAU LANDFILL | T14NR13WSEC20NMPH | THOREAU | NM |  | INTERIOR | 103c, 3016
BLM—VELARDE LANDFILL | T22NR9ESEC20NMPH | VELARDE | NM | 87582 | INTERIOR | 103c, 3016
BLM—WASTE ELEC. TRANSFORMER SITE NO. 1 | T4SR1WSEC17,20 | SOCORRO | NM | 87801 | INTERIOR | 103c
BLM—WATERFLOW LANDFILL | T30 NR 16W SEC 35 | WATERFLOW | NM | 87421 | INTERIOR | 103c, 3016
ALBUQUERQUE HOSPITAL | 2100 RIDGECREST | ALBUQUERQUE | NM | 87106 | VETERANS AFFAIRS | 3005, 3010, 3016, 103c
TONOPAH TEST RANGE | 140 MI NW OF LAS VEGAS | TONOPAH | NV | 89049 | ENERGY | 3005, 3010, 103c, 103a, 3016
BLM—AARON MINING | T28NR4ESEC9 | ESMERELDA | NV | 89421 | INTERIOR | 103c
BLM—ALL MINERALS INC. | T12NR46ESEC10 | NYE | NV | 89045 | INTERIOR | 103c
BLM—AMERICAN BORATE COMPANY | T18SR49ESEC1 | NYE | NV | 89020 | INTERIOR | 103c
BLM—ANTELOPE VALLEY PESTICIDE SITE | T25NR42ESEC18 | LANDER | NV | 89310 | INTERIOR | 103c, 3016
BLM—ARGENTUM MILL | NE ¼ SEC 17 T3N R36E | ESMERELDA COUNTY | NV | 89010 | INTERIOR | 103c
BLM—AUSTIN WELL | T40NR35ESEC32 | NUMBOLDT | NV | 98445 | INTERIOR | 103c
BLM—BAR RESOURCES INC. BUCKHORN MINE | T26NR49ESEC30 | CARLIN | NV | 89822 | INTERIOR | 103c
BLM—BUNKER HILL COMPANY | T1NR67ESEC29 | LINCOLN | NV | 89043 | INTERIOR | 103c, 3016
BLM—CANDELARIA PARTNERS OMC | T34NR35ESEC2233435 | MINA | NV | 89422 | INTERIOR | 3010, 103c
BLM—CARLIN GOLD MINE | T35NR50ESEC14 | CARLIN | NV | 89822 | INTERIOR | 103c
BLM—CHROMALLOY MINING & MILLING | T42NR63ESEC11 | ELKO | NV | 89801 | INTERIOR | 103c
BLM—CHROMALLOY MINING & MILLING | T42NR62ESEC17 | ELKO | NV | 89801 | INTERIOR | 103c
BLM—CLOSED CALIENTE LANDFILL | T3S, R67E, SEC28 | LINCOLN COUNTY | NV | 89008 | INTERIOR | 103c
BLM—CORTEZ JOINT VENTURE | T27NR47ESEC13 | BEOWAWE | NV | 89821 | INTERIOR | 3010, 103c
BLM—CRESCENT MINING LTD (REST MINE) | T28SR1ESEC31 | SEARCHLIGHT | NV | 89046 | INTERIOR | 103c
BLM—CRESCENT VALLEY MILL | T29NR48ESEC24 | CRESCENT VALLEY | NV | 89821 | INTERIOR | 103c
BLM—CYPRUS MINING CORP. | T13NR46ESEC18 | NYE | NV | 89045 | INTERIOR | 103c
BLM—D&Z EXPLORATION COMPANY | T28NR34ESEC32 | LOVELOCK | NV | 89419 | INTERIOR | 103c
BLM—DEE GOLD MINING COMPANY | T37NR50ESEC6 | ELKO | NV | 89801 | INTERIOR | 103c
BLM—DOUBLE EAGLE INC., LOWER ROCHESTER | T28NR34ESEC18 | LOVELOCK | NV | 89419 | INTERIOR | 103c
BLM—DOUGLAS COUNTY LANDFILL | T12NR21ESEC18 | GARDNERVILLE | NV | 89410 | INTERIOR | 103c
BLM—DRESSER MINERALS, GREYSTON MINE | T28NR46ESEC16 | BATTLE MOUNTAIN | NV | 89820 | INTERIOR | 103c, 3010
BLM—DUVAL CORP. MINE SITE | T31NR43ESEC23, 24, 25 | BATTLE MOUNTAIN | NV | 89820 | INTERIOR | 103c
BLM—EISMAN CHEMICAL COMPANY | T34NR62ESEC32 | CARLIN | NV | 89822 | INTERIOR | 103c
BLM—ELY CRUDE OIL COMPANY | T9NR57ESEC35 | ELY | NV | 89301 | INTERIOR | 103c
BLM—IMCO SERVICES INC | T28NR44ESEC4 AND T28NR46ESEC32 | BATTLE MOUNTAIN | NV | 89620 | INTERIOR | 103c
BLM—INTERMOUNTAIN EXPLORATION | T26SR64ESEC9 | BOULDER CITY | NV | 89005 | INTERIOR | 103c
BLM—JUPITER GOLD COMPANY | T33NR37ESEC1 | WINNEMUCCA | NV | 89445 | INTERIOR | 103c
BLM—KEMCO BUSTER MINE | T5SR39ESEC25, 26 | GOLDFIELD | NV | 89013 | INTERIOR | 103c
BLM—MCDERMITT MINE | T47NR37ESEC20212729 | MCDERMITT | NV | 89421 | INTERIOR | 103c, 3010
BLM—MINERALS CONCENTRATES | T35NR37ESEC12 | HUMBOLDT | NV | 89445 | INTERIOR | 103c
BLM—MINERALS MANAGEMENT, INC.—ARGENTUM MILL | T3NR36SSEC65—BETWEEN HWY 6 & 95 | COLUMBUS MARSH | NV | 89010 | INTERIOR | 103c
BLM—MONELLO SHELLITE | T40NR69ESEC34 | MONTELLO | NV | 89830 | INTERIOR | 103c
BLM—MT. HOPE MINE | T22NR51ESEC12 | ELY | NV | 89301 | INTERIOR | 103c
BLM—MULTI-METALLICS INC. | T37NR1ESEC25 | WINNEMUCCA | NV | 89445 | INTERIOR | 103c
BLM—NEW PASS RESOURCES INC | T20NR40ESEC10 | AUSTIN | NV | 89310 | INTERIOR | 103c
BLM—ORMSBY LANDFILL | T15NR20-21ESEC1, 12, 7700 HWY 50E | CARSON CITY | NV | 89701 | INTERIOR | 103c
BLM—OSAGE MILL SITE | T24S R57E S27 NE ¼ SW ¼ | SANDY VALLEY | NV | 89019 | INTERIOR | 103c
BLM—QUINN RIVER VALLEY | T43NR36ESEC18 | HUMBOLDT COUNTY | NV | 89445 | INTERIOR | 103c, 3016
BLM—SEARCHLIGHT LANDFILL | T29S R63E S12 | SEARCHLIGHT | NV | 89046 | INTERIOR | 103c
BLM—SILVERADO MILL SITE | T18N R55E S19, 20 MI N OF EUREKA | EUREKA | NV | 89316 | INTERIOR | 3016, 103c
BLM—SMOKEY VALLEY MINING COMPANY | T10NR44ESEC18-20, 29 | ROUND MOUNTAIN | NV | 89045 | INTERIOR | 103c
BLM—STANDARD GOLD MINE | T30NR33ESEC1 | IMLAY | NV | 89418 | INTERIOR | 103c
BLM—UNION CARBIDE CORP (EMERSON MINE) | T3SR56ESEC26 | LINCOLN | NV | 89001 | INTERIOR | 103c
BLM—UNION PACIFIC R/W | T8SR67ESEC23 | LINCOLN | NV | 89008 | INTERIOR | 3016, 103c
BLM—UNIVERSAL GAS INC. | R35NR50ESEC10 | EUREKA | NV | 89316 | INTERIOR | 103c
BLM—UTAH INTERNATIONAL INC. | T34NR34ESEC35, 36 | IMLAY | NV | 89418 | INTERIOR | 103c
BLM—VETA GRANDE MINING COMPANY | T11NR21ESEC3, 4, 9, HWY 395S | GARDNERVILLE | NV | 89410 | INTERIOR | 103c
BLM—WEST COAST OIL & GAS CORP | T19NR22ESEC26, 36, 20 MI E OF RENO OFF HWY 80 | STOREY COUNTY | NV | 89400 | INTERIOR | 3010, 103c
BLM—WESTERN WINDFALL LTD | T18NR53ESEC1, 2 | EUREKA | NV | 89316 | INTERIOR | 103c
PLUM ISLAND ANIMAL DISEASE CENTER | PLUM ISLAND | ORIENT POINT | NY | 11957 | AGRICULTURE | 3016, 103c, 3010
HANCOCK FIELD | TAFT AND THOMPSON ROADS | NORTH SYRACUSE | NY | 13212 | AIR FORCE | 3010, 3016, 103c, 3005
NIAGARA FALLS AIR FORCE RESERVE FACILITY | 914 TAG/DE PO BOX F LASALLE STATION | NIAGARA FALLS IAP | NY | 14304 | AIR FORCE | 3005, 3010, 3016, 103c
PLANT #38 | PORTER & BALMER RDS | PORTER TWP | NY | 14131 | AIR FORCE | 3005, 3010, 3016, 103c
PLANT #59 | 600 MAIN STREET | JOHNSON CITY | NY | 13790 | AIR FORCE | 3016, 103c, 3010
STEWART AIR NATIONAL GUARD BASE | STEWART INTERNATIONAL AIRPORT | NEWBURGH | NY | 12550 | AIR FORCE | 103c, 3010, 3016
YOUNGSTOWN TEST ANNEX | BALMER RD | PORTER CENTER | NY | 14131 | AIR FORCE | 103c, 3016
AMHERST ARMY RESERVE CENTER | 100 N FOREST RD | BUFFALO | NY | 14221 | ARMY | 3010, 103c
BELLMORE MAINTENANCE FACILITY | 2755 MAPLE AVE | BELLMORE | NY | 11710 | ARMY | 3010, 3016, 103c
ELIHU ROOT ARMY RESERVE CENTER | 96 BURRSTONE RD | UTICA | NY | 13502 | ARMY | 3010, 103c
FLOYD ANNEX SITE | KOENING ROAD | FLOYD | NY | 13440 | ARMY | 103c
FORT HAMILTON | FT HAMILTON | BROOKLYN | NY | 11252 | ARMY | 3010, 103c, 3016
FORT TOTTEN | BAYSIDE | QUEENS | NY | 11359 | ARMY | 3010, 103c, 3016
NIAGARA FALLS FACILITY | 9400 PORTER ROAD | NIAGARA FALLS | NY |  | ARMY | 103a
PFC CHARLES DEGLOPPER ARMY RESERVE CENTER | 2393 COLVIN BLVD | TONAWANDA | NY | 14150 | ARMY | 3010, 103c
ROCHESTER COMBINED SUPPORT SHOP & US FISCAL OFFICE | 1500 HENRIETTA RD | ROCHESTER | NY | 14623 | ARMY | 103c, 3010
ROOSEVELT ARMY RESERVE CENTER | 101 OAK ST | HEMPSTEAD | NY | 11550 | ARMY | 3010, 103c
SAGE COMPLEX | 510 STEWART DR W | NORTH SYRACUSE | NY | 13212 | ARMY | 3010, 103c
STEWART ANNEX/SUBPOST | USMA NEWBURG LANDFILL, STEWART AIRPORT, RT 17 | NEWBURG | NY | 12550 | ARMY | 3016, 3010, 103c
TSG H.C. LOCKWOOD ARMY RESERVE CENTER | 111 FINNEY BLVD | MALONE | NY | 12953 | ARMY | 3010, 103c
WATERVLIET ARSENAL | BROADWAY | WATERVLIET | NY | 12189 | ARMY | 3005, 3010, 3016, 103a, 103c
WEBSTER ARMY MAINTENANCE SUPPORT ACTIVIT-7 | 517 OLD RIDGE ROAD | WEBSTER | NY | 14580 | ARMY | 3010, 103c
WEST POINT MILITARY ACADEMY | RT 9W-BLDG 733 | WEST POINT | NY | 10996 | ARMY | 3005, 3010, 3016, 103c, 103a
YOUNGSTOWN WEEKEND TRAINING SITE | BALMER RD | YOUNGSTOWN | NY | 14174 | ARMY | 103c, 3016
VERONA DEFENSE FUEL SUPPORT POINT | MAIN ST. | VERONA | NY | 13478 | DEFENSE LOGISTICS AGENCY | 3010, 3016, 103c
COLONIE INTERIM STORAGE SITE | 1130 CENTRAL AVE | COLONIE | NY | 12205 | ENERGY | 3005, 3010, 3016, 103c
KNOLLS ATOMIC POWER LABORATORY—KESSELRING SITE | ATOMIC PROJECT ROAD | WEST MILTON | NY | 12020 | ENERGY | 3005, 3010, 3016, 103c, 103a
KNOLLS ATOMIC POWER LABORATORY—KNOLLS SITE | 2401 RIVER RD | NISKAYUNA | NY | 12309 | ENERGY | 3005, 3010, 3016, 103c
NIAGARA FALLS STORAGE SITE | 1397 PLETCHER ROAD | LEWISTOWN | NY | 14092 | ENERGY | 3016, 103c
BROOKLYN INFORMATION AGENCY | 29TH & 3RD AVE, DOOR 15 | BROOKLYN | NY | 11232 | GENERAL SERVICES ADMINISTRATION | 3010, 103c
EMMANUEL CELLARD FEDERAL BUILDING | 225 CADMAN PLAZA | BROOKLYN | NY | 11201 | GENERAL SERVICES ADMINISTRATION | 3010, 103c
FEDERAL BUILDING | 252 7TH AVE | NEW YORK | NY | 10001 | GENERAL SERVICES ADMINISTRATION | 3010, 103c
MERCHANDISE CONTROL SALES SECTION | 6 WORLD TRADE CENTER | NEW YORK | NY | 10048 | GENERAL SERVICES ADMINISTRATION | 3010, 103c
NEW YORK | 201 VARICK ST | NEW YORK | NY | 10014 | GENERAL SERVICES ADMINISTRATION | 3010, 103c
FWS—IROQUOIS NATIONAL WILDLIFE REFUGE | PO BOX 517 | ALABAMA | NY | 14003 | INTERIOR | 3016, 103c
FWS—MONTEZUMA NATIONAL WILDLIFE REFUGE | 3395 ROUTE 5 & 20 EAST | SENECA FALLS | NY | 13148 | INTERIOR | 3010,3016, 103c
NPS—FIRE ISLAND NATIONAL SEASHORE | 120 LAUREL STREET | PATCHOGUE | NY | 11772 | INTERIOR | 3016, 3010, 103c
NPS—GATEWAY NATIONAL RECREATIONAL AREA | FLOYD BENNETT FIELD | BROOKLYN | NY | 11234 | INTERIOR | 103c, 3010
NPS—SARATOGA NATIONAL HISTORICAL PARK | 648 RT 32 | SARATOGA SPRINGS | NY | 12170 | INTERIOR | 103c
NPS—STATUE OF LIBERTY NATL MONUMENT: ELLIS ISLAND | NATIONAL MONUMENT LIBERTY ISLAND | LIBERTY ISLAND | NY | 10004 | INTERIOR | 3010
NPS—UNITED NUCLEAR | OLD RTE. 55 | PAWLING | NY | 12564 | INTERIOR | 103c, 3010
PENNSYLVANIA AVE/FOUNTAIN AVE LANDFILLS | PENNSYLVANIA AVE, SHORE PKWY | BROOKLYN | NY | 11207 | INTERIOR | 3010, 103c
BROOKLYN NAVAL AND MARINE CORPS RESERVE CENTER | FLOYD BENNETT FIELD | BROOKLYN | NY | 11234 | NAVY | 103c
FORT WADSWORTH | FT. WADSWORTH | STATEN ISLAND | NY | 10305 | NAVY | 3010, 103c
MITCHEL FIELD HOUSING FACILITY | NAVSTA NEW YORK HOUSING OFFICE, BLDG. 19, WEST ROAD, MITCHEL FIELD | GARDEN CITY | NY | 11530 | NAVY | 103c, 3010
MITCHEL MANOR HOUSING FACILITY | NAVSTA NEW YORK HOUSING OFFICE, 85 A MITCHEL AVENUE | EAST MEADOW | NY | 11554 | NAVY | 103C
NEW YORK NAVAL STATION | 207 FLUSHING AVE | BROOKLYN | NY | 11251 | NAVY | 3010, 103c
ROCHESTER NAVAL INDUSTRIAL RESERVE ORDNANCE PLANT | 121 LINCOLN AVENUE | ROCHESTER | NY | 14653 | NAVY | 103c
STAPLETON NAVAL STATION | STAPLETON | STATEN ISLAND | NY | 10304 | NAVY | 3010, 103c
BINGHAMTOM POST OFFICE | 111 HENRY STREET | BINGHAMTON | NY | 13902 | POSTAL SERVICE | 3010, 103c
MANHATTAN GENERAL MAIL FACILITY | WEST 29TH ST AND 9TH AVE | NEW YORK | NY | 10001 | POSTAL SERVICE | 3010, 103c
NEWARK POST OFFICE | 300 S MAIN ST | NEWARK | NY | 14513 | POSTAL SERVICE | 3010
AIDS TO NAVIGATION TEAM | 7063 LIGHTHOUSE DRIVE | SAUGERTIES | NY | 12477 | TRANSPORTATION | 3010, 103c
MORICHES COAST GUARD GROUP | 100 MORICHES ISLAND RD | EAST MORICHES | NY | 11940 | TRANSPORTATION | 3010, 103c
SHINNECOCK COAST GUARD STATION | SHINNECOCK STATION | HAMPTON BAYS | NY | 11946 | TRANSPORTATION | 3010, 103c
SUPPORT CENTER GOVERNOR'S ISLAND | C/O US COAST GUARD GROUP | GOVERNOR'S ISLAND | NY | 10004 | TRANSPORTATION | 3010, 103c
WEST SAYVILLE IFS TRANSMITTER | CHERRY AVE | WEST SAYVILLE | NY | 11796 | TRANSPORTATION | 3010, 3016, 103c
CASTLE POINT HOSPITAL | RTE. 9D | CASTLE PT. | NY | 12511 | VETERANS AFFAIRS | 3010, 103c
COLUMBUS DEFENSE CONSTRUCTION SUPPLY CENTER | 3990 E. BROAD ST. FRANKLIN COUNTY | COLUMBUS | OH | 43215 | ARMY | 3005, 3010, 3016, 103c
LIMA ARMY TANK CENTER | 1155 BUCKEYE RD, ALLEN COUNTY | LIMA | OH | 45804-1898 | ARMY | 3010, 3016, 103c
CAESAR CREEK LAKE BRIDGE | BRIDGE AT CAESAR CREEK LAKE | WAYNESVILLE | OH | 45068 | CORPS OF ENGINEERS, CIVIL | 3010
WEST FORK LAKE BRIDGE | BRIDGE AT WEST FORK LAKE | CINCINNATI | OH | 45240 | CORPS OF ENGINEERS, CIVIL | 3010
DAYTON DEFENSE ELECTRONIC SUPPLY CENTER | 1507 WILMINGTON PIKE MONTGOMERY COUNTY | DAYTON | OH | 45444 | DEFENSE | 3010, 3016, 103c
CINCINNATI DEFENSE FUEL SUPPORT PLANT | 4820 RIVER RD HAMILTON COUNTY | CINCINNATI | OH | 45233 | DEFENSE LOGISTICS AGENCY | 3010, 3016, 103c
ANDREW W. BREIDENBACH ENVIRONMENTAL RESEARCH CTR | 26 W MARTIN LUTHER KING DR | CINCINNATI | OH | 45268 | EPA | 3005, 3010, 3016, 103c
CENTER HILL HAZARDOUS WASTE ENGRG RESEARCH LAB | 5595 CENTER HILL ROAD | CINCINNATI | OH | 45268 | EPA | 3005, 3010, 3016, 103c
TESTING AND EVALUATION FACILITY | 1600 GEST ST | CINCINNATI | OH | 45204 | EPA | 3005, 3010, 3016, 103c
GLENN RESEARCH CENTER PLUM BROOK STATION | 6100 COLUMBUS AVENUE | SANDUSKY | OH | 44870 | NASA | 3010, 3016, 103c, 103a, 3005
GRAZINGLANDS RESEARCH | P.O. BOX 1199 | EL RENO | OK | 73036 | AGRICULTURE | 3016, 103c
PLANT SCIENCES AND WATER CONSERVATION LABORATORY | 1301 N. WESTERN RD | STILLWATER | OK | 74076 | AGRICULTURE | 3016, 103c
RANGE AND PASTURE RESEARCH | 2000 18TH STREET | WOODWARD | OK | 73801 | AGRICULTURE | 103c, 3016
137TH TACTICAL AIRLIFT WING | WILL ROGERS WORLD AIRPORT | OKLAHOMA CITY | OK |  | AIR FORCE | 103c
VANCE AIR FORCE BASE | 71 ABG/DE | ENID | OK | 73702 | AIR FORCE | 3005, 3010, 3016, 103c
FIELD ARTILLERY TNG CT | 2930 CURRIE RD ATTN ATZR-B | FORT SILL | OK | 73503 | ARMY | 3005, 3010, 3016, 103c
FORT GIBSON LAKE |  | PRYOR | OK | 74361 | CORPS OF ENGINEERS, CIVIL | 3016, 103c
ROBERT S. KERR LOCK DAM & RESEVOIR | STAR ROUTE 4 | SALLISAW | OK | 74063 | CORPS OF ENGINEERS, CIVIL | 3005, 3010, 3016, 103c
BIA—CADDO COUNTY LANDFILL #1 | SE/4 SEC7 T5N R11W SW/4 SEC8 | APACHE | OK |  | INTERIOR | 103c
FWS—WICHITA MOUNTAINS NATIONAL WILDLIFE REFUGE | RT 1 | INDIAHOMA | OK | 73552 | INTERIOR | 3016, 103c
FREMONT NF: ANGEL PEAK MINE SITE | T37S R17E S32, 30 MI W OF LAKEVIEW | LAKEVIEW | OR | 97630 | AGRICULTURE | 103c
FREMONT NF: ANGEL PEAK ROADS | 42D22M30SN, 120D45M00SW | LAKEVIEW | OR | 97630 | AGRICULTURE | 103c
FREMONT NF: SILVER LAKE R.D. PENTA SITE | HWY 31, 55 MI NW OF PAISLEY | SILVER LAKE | OR | 97638 | AGRICULTURE | 103c, 3010, 3016
MT. HOOD NF: BORROW PIT | 3 MI SE OF CITY, T1N R6E S31 | BRIDAL VEIL | OR | 97010 | AGRICULTURE | 103c
MT. HOOD NF: SITE B | T1N R6E S7 FS RD 1509, 3 MI SE OF CITY | BRIDAL VEIL | OR | 97010 | AGRICULTURE | 103c
OCHOCO NF: CROOKED RIVER GRASSLANDS | T12S R14E S34 | MADRAS | OR | 99741 | AGRICULTURE | 3010, 103c
SIUSLAW NF: MT. HEBO AIR FORCE STATION | 8 MI E. OF HWY 22 | HEBO | OR | 97122 | AGRICULTURE | 103c, 3010, 3016
WILLAMETTE NF: LOWELL RANGER STATION | FS RD 1806-433, SPUR 477, 44D02M01SN, 122D35M06SW | LOWELL | OR | 97452 | AGRICULTURE | 3010, 103c
WILLAMETTE NF: SHINY ROCK MINE | HIGHWAY 125 35 MI E OF CY | EUGENE | OR | 97440 | AGRICULTURE | 3016, 103c
WILLAMETTE NF: SWEET HOME WORK CENTER | 4431 HWY 20 | SWEET HOME | OR | 97386 | AGRICULTURE | 103c
KENO AIR FORCE STATION | HAYMAKER MT RD PEAK END OF RD | KENO | OR | 97627 | AIR FORCE | 3010, 103c
KINGSLEY FIELD | JOE WRIGHT RD, 5 MI S OF CITY | KLAMATH FALLS | OR | 97603 | AIR FORCE | 3010, 3016, 103c
NORTH BEND AIR NATIONAL GUARD STATION | T25S R13W SEC9 | NORTH BEND | OR | 97459 | AIR FORCE | 103c
ASTORIA FIELD OFFICE | HWY 30 & MARITIME RD | ASTORIA | OR | 97103 | CORPS OF ENGINEERS, CIVIL | 3010, 3016, 103c
BRADFORD ISLAND LANDFILL | T2N R7E S22 SW¼, WILLAMETTE MERIDIAN | CASCADE LOCKS | OR | 97014 | CORPS OF ENGINEERS, CIVIL | 103c
ELK CREEK DAM PROJECT | 27 MI N OF CITY | MEDFORD | OR | 97503 | CORPS OF ENGINEERS, CIVIL | 103c
PORTLAND 3 MILE CANYON SITE | I84 1.2 MI W OF EXIT 147 | ARLINGTON | OR | 97812 | CORPS OF ENGINEERS, CIVIL | 3010, 103c
PORTLAND MOORINGS | 8010 NW ST HELENS RD | PORTLAND | OR | 97210 | CORPS OF ENGINEERS, CIVIL | 3010, 103c
THE DALLES DAM | EXIT 88 | THE DALLES | OR | 97058 | CORPS OF ENGINEERS, CIVIL | 3010, 103c
WILLAMETTE FALLS LOCKS | WEST LINN | WEST LINN | OR | 97068 | CORPS OF ENGINEERS, CIVIL | 103c, 3016
BPA—ALVEY SUBSTATION | 86000 FRANKLIN | EUGENE | OR | 97405 | ENERGY | 3010, 103c
BPA—CELILO CONVERTER STATION | 3920 COLUMBIA VIEW DR E | THE DALLES | OR | 97058 | ENERGY | 3010, 103c
BPA—OREGON CITY SUBSTATION: OSTRANDER | 16885 EADEN ROAD | OREGON CITY | OR | 97045 | ENERGY | 103a, 103c
BPA—TROUTDALE SUBSTATION | SUNDIAL RD | TROUTDALE | OR | 97060 | ENERGY | 3010, 103c
CORVALLIS ENVIRONMENTAL RESEARCH LABORATORY | 200 SW 35TH ST | CORVALLIS | OR | 97333 | EPA | 3010, 103c
BLM—LYTLE BOULEVARD DUMP | T19S R46E S31 & T20S R46E S31 | VALE | OR | 97918 | INTERIOR | 3016, 103c
BLM—MERLIN LANDFILL | T35SR6WSEC27 | MERLIN | OR | 97532 | INTERIOR | 3016, 103c
BLM—MIDDLE CREEK BATTERY DUMP SITE | T27S R11W S13 | NORTH BEND | OR | 97459 | INTERIOR | 103c
BLM—MINEXCO MILLSITE | T9SR42ESEC8 | BAKER | OR | 97814 | INTERIOR | 3016, 103c
BLM—SLIDES DUMP SITE | T15SR46ESEC35, LOTS1,2 | ONTARIO | OR | 97914 | INTERIOR | 3016, 103c
BLM—VALE CITY DUMPSITE | T18SR45SEC32 | VALE | OR | 97918-0008 | INTERIOR | 3016, 103c
BLM—ALBANY RESEARCH CENTER | 1450 SW QUEEN AVE | ALBANY | OR | 97321 | INTERIOR | 3010, 3016, 103c
NPS—CRATER LAKE NATIONAL PARK | HWY 62 NW OF FORT KLAMATH | CRATER LAKE | OR | 97604 | INTERIOR | 3010, 103c
TONGUE POINT JOB CORPS CENTER | BETWN MP 95 & 96 HWY 30 | ASTORIA | OR | 97103 | LABOR | 3010, 103c
ASTORIA COAST GUARD BASE | HWY 30 AT TONGUE POINT | ASTORIA | OR | 97103 | TRANSPORTATION | 3010, 103c
CG—COOS BAY ANT | 4333 BOAT BASIN RD | CHARLESTON | OR | 97420 | TRANSPORTATION | 3010, 103c
PORTLAND MARINE SAFETY COAST GUARD STATION | 6767 N BASIN | PORTLAND | OR | 97217 | TRANSPORTATION | 3010, 103c
GREATER PITTSBURG INTERNATIONAL AIRPORT | 911 TAG/DE | PITTSBURGH | PA | 15231 | AIR FORCE | 3016, 103c
CHARLES E. KELLY SUPPORT CENTER | US ARMY | OAKDALE | PA | 15071 | ARMY | 3010, 103c
PHILADELPHIA DEFENSE PERSONNEL SUPPORT CENTER | 2800 S 20TH ST | PHILADELPHIA | PA | 19101 | ARMY | 3005, 3010, 3016, 103c
NPS—GETTYSBURG NATIONAL MILITARY PARK | RD 1 | GETTYSBURG | PA | 17325 | INTERIOR | 103c
CAMP SANTIAGO | ROUTE 1 | SALINAS | PR | 00751 | ARMY | 103c, 3010, 3016
FORT BUCHANAN | ROUTE 28 | SAN JUAN | PR | 00934 | ARMY | 3005, 3010, 103c, 3016
CENTER FOR ENERGY AND ENVIRONMENTAL RESEARCH | ROAD 108 KM 1.1 | MAYAQUEZ | PR | 00708 | ENERGY | 3016, 103c, 3010
SAN JUAN POST OFFICE & COURTHOUSE | COMERCIO ST & TANCA ST | SAN JUAN | PR | 00906 | GENERAL SERVICES ADMINISTRATION | 3010
CEIBA NAVAL STATION | ROOSEVELT ROADS | CEIBA | PR | 00635 | NAVY | 3005, 3010, 3016, 103c
ROOSEVELT ROADS NAVAL STATION | VILLA VERDE STREET DRYDOCK & REPAIR FACILITY | MIRAMAR | PR | 00903 | NAVY | 3005, 3010, 3016, 103c
SAN JUAN NAS HANGAR 21 | PORT OF SAN JUAN HARBOR | SAN JUAN | PR | 00906 | NAVY | 3016, 103c
VIEQUES EAST | VIEQUES | VIEQUES | PR | 00765 | NAVY | 103c, 3005, 3010, 3016
VIEQUES NAVAL AMMUNITION FACILITY | ROUTE 70 | VIEQUES | PR | 00765 | NAVY | 3005, 3010, 3016, 103c
BORINQUEN COAST GUARD AIR STATION | RAMEY AIR FORCE BASE | AQUADILLA | PR | 00604 | TRANSPORTATION | 3010, 103c
BEAUFORT NAVAL HOSPITAL | SC HIGHWAY 280 | BEAUFORT | SC | 29902 | NAVY | 3010
CHARLESTON NAVAL SHIPYARD | VIADUCT ROAD | CHARLESTON | SC | 29408 | NAVY | 3005, 3010, 3016
BLACK HILLS NF: CUSTER RANGER DISTRICT | 647 NORTH 3RD ST | CUSTER | SD | 57730 | AGRICULTURE | 3010, 3016, 103c
BLACK HILLS NF: SPOKANE MUNITIONS | R6E, T25, SW1/4, SEC26 | SPOKANE | SD |  | AGRICULTURE | 103c, 3016
SILVER KING MINES INC | US HWY. 18 | EDGEMONT | SD | 57735 | TENNESSEE VALLEY AUTHORITY | 3010, 103c
HOLSTON ARMY AMMUNITION PLANT | WEST STONE DRIVE | KINGSPORT | TN | 37660 | ARMY | 3005, 3010, 3016, 103c, 103a
MEMPHIS NAVAL AIR STATION | MILLINGTON-ARLINGTON ROAD | MILLINGTON | TN | 38054 | NAVY | 3005, 3010, 3016, 103c, 103a
ALLEN FOSSIL PLANT | 2574 PLANT RD | MEMPHIS | TN | 38109 | TENNESSEE VALLEY AUTHORITY | 3005, 3010, 3016, 103c, 103a
BOONE HYDRO PLANT | TN HWY 75/8 MI SE OF | KINGSPORT | TN | 37662 | TENNESSEE VALLEY AUTHORITY | 103a, 3010
BULL RUN FOSSIL PLANT | EDGEMOOR RD., 6 MI SE OF OAK RIDGE | OAK RIDGE | TN | 37930 | TENNESSEE VALLEY AUTHORITY | 3010, 103c
CUMBERLAND FOSSIL PLANT | 815 CUMBERLAND CITY RD | CUMBERLAND CITY | TN | 37050 | TENNESSEE VALLEY AUTHORITY | 3010, 103a, 103c
HARTSVILLE SITE | TN HWY 25 | HARTSVILLE | TN | 37050 | TENNESSEE VALLEY AUTHORITY | 3010, 103a, 103c
JOHN SEVIER FOSSIL PLANT | TN HWY 70E | ROGERSVILLE | TN | 37134 | TENNESSEE VALLEY AUTHORITY | 3005, 3010, 103c, 103a
KINGSTON FOSSIL PLANT | OFF I-40 EAST | KINGSTON | TN | 37763 | TENNESSEE VALLEY AUTHORITY | 3005, 3010, 103c
SEQUOYAH NUCLEAR PLANT | HIXSON PIKE RD | DAISYS | TN | 37319 | TENNESSEE VALLEY AUTHORITY | 3005, 3010, 103c, 103a
WATAUGA HYDRO PLANT | WILBUR DAM RD 5 MI E OF | ELIZABETHTON | TN | 37643 | TENNESSEE VALLEY AUTHORITY | 3010
WATTS BAR NUCLEAR PLANT | TN HWY 68 | SPRING CITY | TN | 37381 | TENNESSEE VALLEY AUTHORITY | 3005, 3010, 103c
CONSERVATION AND PRODUCTION RESEARCH LABORATORY | 1/2 MILE W., T-40 S | BUSHLAND | TX | 79012 | AGRICULTURE | 3016, 103c
COTTON INSECTS RESEARCH LABORATORY |  | BROWNSVILLE | TX | 78520 | AGRICULTURE | 103c
HONEY BEE RESEARCH LABORATORY |  | WESLACO | TX | 78520 | AGRICULTURE | 103c
KNIPLING-BUSHLAND LIVERSTOCK INSECTS LABORATORY | INTERSECTION SH 16 AND IH 10 | KERRVILLE | TX | 78028 | AGRICULTURE | 3016, 3005
SUBTROPICAL AGRICULTURE RESEARCH LABORATORY | FM 1015, SOUTH EXPRESSWAY 83 | WESLACO | TX | 76115 | AGRICULTURE | 3010, 3016, 103c
147TH WING AT ELLINGTON FIELD | CLOTHIER AVENUE | HOUSTON | TX | 77209 | AIR FORCE | 103c, 3016, 3010
BERGSTROM AIR FORCE BASE | 67 CSG/DE | BERGSTROM AFB | TX | 78743 | AIR FORCE | 3005, 3010, 3016, 103c, 103a
DYESS AIR FORCE BASE | 96 CSG/CC | ABILENE | TX | 79607 | AIR FORCE | 3005, 3010, 3016, 103c, 103a
NEDERLAND AIR NATIONAL GUARD | HIGHWAY 69 | NEDERLAND | TX | 77627 | AIR FORCE | 103c
SHEPPARD AIR FORCE BASE | 3750 ABG/DE | WICHITA FALLS | TX | 76311 | AIR FORCE | 3005, 3010, 3016, 103c
CANYON LAKE RECREATION AREA | NORTH SIDE OF CANYON LAKE (BY DAM) | SAN ANTONIO | TX | 78234 | ARMY | 103c
CORPUS CHRISTI ARMY MAINTENANCE SUPPORT ACTIVITY | 2022 SARATOGA | CORPUS CHRISTI | TX | 78415 | ARMY | 3005, 3010, 103c, 103a
FORT BLISS AIR DEFENSE CENTER | ENVIRON MGMT OFC BLDG 1105 W | FORT BLISS | TX | 79916 | ARMY | 3005, 3010, 3016, 103c, 103a
FUELS & LUBRICANT RESEARCH LABORATORY | 6220 CUEVRA | SAN ANTONIO | TX | 78284 | ARMY | 103c
SAGINAW AIRCRAFT PLANT | BLUE MOUND ROAD HIGHWAY 156 | SAGINAW | TX | 76131 | ARMY | 3010, 103c
TERRELL NIKE MISSILE SITE | ½ MI E. OF HWY 205 | TERRELL | TX | 75160 | ARMY | 103c
LAKE LAVON-NORTH GULLY SITE 1 | HIGHWAY 380 | WYLIE | TX | 75077 | CORPS OF ENGINEERS. CIVIL | 3016, 103c
LAKE LAVON-ST PAUL SITE 2 | S END ROLLING MEADOWS ST | WYLIE | TX | 75098 | CORPS OF ENGINEERS, CIVIL | 103c, 3010
HOUSTON LABORATORY | 6608 HORNWOOD DR | HOUSTON | TX | 77074 | EPA | 3010, 103c
FWS—LAGUAN ATASCOSA NATIONAL WILDLIFE REFUGE | P.O. BOX 450 | RIO HONDO | TX | 78583 | INTERIOR | 103c
NPS—PADRE ISLAND | PARK ROAD 22 | CORPUS CHRISTI | TX | 78418 | INTERIOR | 3010, 3016, 103c
BASTROP FEDERAL CORRECTIONAL INSTITUTION | HWY95 8MI NE OF BASTROP | BASTROP | TX | 78602 | JUSTICE | 3010, 3016, 103c
L.B. JOHNSON SPACE CENTER | 2101 NASA ROAD | HOUSTON | TX | 77058 | NASA | 3005, 3016, 103a, 103c
CHASE FIELD NAVAL AIR STATION | SW 202 5 MI E. OF BEEVILLE | BEEVILLE | TX | 78103 | NAVY | 3005, 3010, 103c
KINGSVILLE NAVAL AIR STATION | 554 MCCAIN ST STE 310 | KINGSVILLE | TX | 78363 | NAVY | 3010, 103c, 103a, 3005
PLANT #78 | 35 MI. NW OF BRIGHAM CITY MAIL STOP 250 | BRIGHAM CITY | UT | 84302 | AIR FORCE | 3010, 3016, 103c
BLM—CHEVRON RED WASH UNIT | T7SRESEC22 | VERNAL | UT | 84078 | INTERIOR | 3016, 103c, 103a
BLM—DESERT MOUND MINE | T35NR13WSEC35 | CEDAR CITY | UT | 84720 | INTERIOR | 3016, 103c
BLM—EAST SUMMIT MINING CLAIMS | T31WR20WSEC11,14 |  | UT |  | INTERIOR | 3016, 103c
BLM—FRYE CANYON TAILING | T36SR16SEC34 | HITE | UT | 84511 | INTERIOR | 1016, 103c
BLM—MERCUR CANYON OUTWASH | HIGHWAY 73, EAST OF TOOELE ARMY DEPOT | TOOELE | UT | 84074 | INTERIOR | 3016, 103c
BLM—SILVER MAPLE CLAIMS | T2SR4ESEC3,4 UTAH HWY 248 | PARK CITY | UT | 84060 | INTERIOR | 3016, 103c
BLM—SNOWVILLE LANDFILL | T14N, R9W, SEC32 | SNOWVILLE | UT | 84336 | INTERIOR | 103c
BLM—WENDOVER LANDFILL | T1S, R19W, SEC3, LOTS 1 AND 2, 3 MI E OF WENDOVER | WENDOVER | UT | 84083 | INTERIOR | 103c, 3016
COTTONWOOD CANYON | T37SR21ESEC3 | HITE | UT | 84511 | INTERIOR | 3016, 103c
ORE BUYING STATION—MOAB | T26SR22ESEC6 PARCLABC | MOAB | UT | 84532 | INTERIOR | 3016, 103c
ARLINGTON MARINE CORPOS BATTALION HEADQUARTERS ARL | HENDERSON HALL | ARLINGTON | VA | 22214 | NAVY | 103c
ROANOKE NAVY AND MARINE CORPS RESERVE | 5301 BARNES AVE | ROANOKE | VA | 24019 | NAVY | 3010, 103c
BLAIR HANGAR ARMY AIR SUPPORT FACILITY | ALEX HAMILTON AIRPORT | ST. CROIX | VI | 00850 | ARMY | 3016, 103c
FS—OKANOGAN NF: ALDER CREEK | T33N R21E S24 WM NE¼ SW ¼ | TWISP | WA | 98856 | AGRICULTURE | 103c
OKANOGAN NF: BONAPARTE | T39N R303 S10 WM | CHESAW | WA | 98844 | AGRICULTURE | 103c
OKANOGAN NF: EIGHT MILE RANCH | T36N R21E S23 QSSE WM | WINTHROP | WA | 98862 | AGRICULTURE | 103c
OKANOGAN NF: EIGHT MILE RANCH | T36N R21E S23 QSSE WM | WINTHROP | WA | 98862 | AGRICULTURE | 103c
OKANOGAN NF: KEBR | T35 R24E S23 WM | CONCONULLY | WA | 98819 | AGRICULTURE | 103c
OKANOGAN NF: LOST LAKE | T39N R30E S28&29 QSNE WM | OROVILLE | WA | 98844 | AGRICULTURE | 103c
OKANOGAN NF: MINNIE MINE | T32N R22E S23, 8 MI S OF | TWISP | WA | 98856 | AGRICULTURE | 3016, 103c
OKANOGAN NF: TONASKET | T37N R27e S16 WM, OKANOGAN RIVER VALLEY | TONASKET | WA | 98855 | AGRICULTURE | 103c
OKANOGAN NF: TWISP | T33N R22E S17 SW¼ NW¼ WM | TWISP | WA | 98856 | AGRICULTURE | 103c
PACIFIC N.W. FOREST RANGE EXPERIMENT STATION | 3625 93RD AVE S. | TUMWATER | WA | 98501 | AGRICULTURE | 3016, 103c
WENATCHEE NF: CHINOOK PASS WORK CENTER | T16N R15E S7 SE¼ NW¼ | NACHES | WA | 98937 | AGRICULTURE | 103c
WENATCHEE NF: STELIKO | T26N R20E S20 NW¼ NW¼ VM | ARDENVOIR | WA | 98811 | AGRICULTURE | 103c
WENATCHEE NF: VEHICLE WASH SUMP | 600 SHERBOURNE ST | LEAVENWORTH | WA | 98826 | AGRICULTURE | 103c
WENATCHEE NF: WHITE PASS WORK CENTER | T14N R14E S28 NE¼ NE¼ | NACHES | WA | 98937 | AGRICULTURE | 103c
PAINE FIELD AIR NATIONAL GUARD STATION | 2701 112TH ST SW | EVERETT | WA | 98204 | AIR FORCE | 103c, 3010
SEATTLE AIR NATIONAL GUARD STATION | 6736 ELLIS AVE S, KING CNTY INT'L AIRPRT | SEATTLE | WA | 98108 | AIR FORCE | 103c
KENT NATIONAL GUARD BUREAU | 24410 MILITARY ROAD | KENT | WA | 98032 | ARMY | 103c, 3016
REDMOND NATIONAL GUARD BUREAU | 17230 NE 95TH STREET | REDMOND | WA | 98052 | ARMY | 103c
VANCOUVER NATIONAL GUARD BARRACKS | HQ, VANCOUVER BARRACKS B-638 | VANCOUVER | WA | 98661 | ARMY | 3016, 103c
YAKIMA FIRING CENTER | 184 4 MI N OF CITY | YAKIMA | WA | 98901 | ARMY | 3005, 3010, 3016, 103c
EDA—COLUMBIA GARDENS | COLUMBIA GARDENS | PASCO | WA | 99301 | COMMERCE | 103c, 3016
CHIEF JOSEPH DAM PROJECT | HWY 17 & HWY 173 | BRIDGEPORT | WA | 98813 | CORPS OF ENGINEERS, CIVIL | 103c
WALLA WALLA DISTRICT HEADQUARTERS | CHERRY ST & SUMAC ST, 3RD AVE & 4TH AVE | WALLA WALLA | WA | 99362 | CORPS OF ENGINEERS, CIVIL | 103c
BPA—BELL SUBSTATION | E 2400 HAWTHORNE RD | MEAD | WA | 98021 | ENERGY | 3010, 3016, 103c, 103a
BPA—COLUMBIA SUBSTATION | ST HWY 28 6 MI S OF CY | ROCK ISLAND | WA | 98850 | ENERGY | 3016, 103c
BPA—MIDWAY SUBSTATION | PRIEST RAPIDS OFF HWY 24 | SUNNYSIDE | WA | 98944 | ENERGY | 3010, 3016, 103c
BPA—OLYMPIA SUBSTATION | 5240 TROSPER ST SW | OLYMPIA | WA | 98502 | ENERGY | 3010, 3016, 103c, 103a
BPA—PORT ANGELES | 1400 E PARK STREET | PORT ANGELES | WA | 98362 | ENERGY | 3010, 3016, 103c, 103a
NIOSH—FORMER ATLAS E | T27N R39e S36, 9 MI N OF | REARDAN | WA | 99029 | HEALTH AND | 103c
BLM—ENLO POWERHOUSE AKA SIMILKAMEEN | T40NR27ESEC13 | OROVILLE | WA | 98844 | INTERIOR | 103c
BLM—OROVILLE LANDFILL | T40NR27ESEC18 | OROVILLE | WA | 98844 | INTERIOR | 103c, 3016
BR—CHANDLER POWER & PUMPING PLANT | OLD INLAND EMPIRE HWY | BENTON CITY | WA | 99320 | INTERIOR | 103c
BR—FORT SIMCOE JOB CORPS CENTER | W END OF HWY 220 T10N R16E S21 | WHITE SWAN | WA | 98952 | INTERIOR | 3010, 103c
BR—GRAND COULEE DAM PROJECT | HWY 155 N OF JCT HWY 174 | COULEE DAM | WA | 99116 | INTERIOR | 3010, 3016, 103c
BR—SMITH WASTEWAY | 5 MI. E. OF PASCO | PASCO | WA | 99301 | INTERIOR | 3016, 103c
CAMP WESLEY HARRIS MARINE FACILITY | SEABECK HWY 3 MI W OF CY | BREMERTON | WA | 98310 | NAVY | 103c
NAVAL RADIO STATION T JIM CREEK | 21027 JIM CREEK RD; 4 MI E OF HWY 530 AT OSO | OSO | WA | 98223 | NAVY | 103c, 3010
PUGET SOUND NAVAL STATION | 7500 SAND POINT WAY NE | SEATTLE | WA | 98115 | NAVY | 3010, 103a, 103c
FAA—MICA PEAK | T24N, R45E, S14 | MICA | WA | 99023 | TRANSPORTATION | 103c, 3016
SEATTLE COAST GUARD SUPPORT CENTER | 1519 ALASKAN WAY S | SEATTLE | WA | 98134 | TRANSPORTATION | 3010, 3016, 103c
SEATTLE COAST GUARD SUPPORT CENTER ANNEX | 2700 W COMMODORE WAY | SEATTLE | WA | 98119 | TRANSPORTATION | 3010, 103c
FOREST PRODUCTS LABORATORY | 1 GIFFORD PINCHOT DR, DANE COUNTY | MADISON | WI | 53705 | AGRICULTURE | 3005, 3010, 3016, 103c
NICOLET NF: TIPLER DUMP | 0.51 MI E ON SHANNON RD & HWY 139 | TIPLER TOWNSHIP | WI | 54542 | AGRICULTURE | 103c
PEWAUKEE ARMY RESERVE CENTER | 619 W WISCONSIN AVE | PEWAUKEE | WI | 53072 | ARMY | 3010, 103c
FWS—ST. CROIX WETLAND MANAGEMENT DISTRICT | 1618 220TH AVE (RURAL AREA), ST. CROIX COUNTY | NEW RICHMOND | WI | 54017 | INTERIOR | 3010
MILWAUKEE COAST GUARD GROUP BASE | 2420 LINCOLN MEMORIAL DR | MILWAUKEE | WI | 53207 | TRANSPORTATION | 3010, 103c
APPALACHIAN SOIL & WATER RESEARCH LABORATORY | AIRPORT RD | BEAVER | WV | 25813 | AGRICULTURE | 3010
HIGH PLAINS GRASSLAND RESEARCH STATION | 8408 HILDRETH ROAD | CHEYENNE | WY | 82009 | AGRICULTURE | 3016, 103c
HOE CREEK |  | GILLETTE | WY |  | ENERGY | 103c
WAPA—CASPER FIELD BR | W OF MT VIEW ON SPIDER RD | MILLS | WY | 82644 | ENERGY | 103c
BLM—BAROIL LANDFILL | T26NR90WSEC26 | BAROIL | WY |  | INTERIOR | 103c
BLM—BIRCH CREEK SITE | T27NR113WSEC34 | WORLAND | WY |  | INTERIOR | 103c
BLM—BOULDER LANDFILL | T31NR108WSEC3 | BOULDER | WY |  | INTERIOR | 103c
BLM—CODY LANDFILL | T52NR101WSEC20 | CODY | WY |  | INTERIOR | 103c
BLM—NORTHWEST PIPELINE-BARREL SPRINGS | T16N R92W S18 SE¼ NW ¼ | CARBON | WY | 82324 | INTERIOR | 3010, 103c
BLM—OLD LYSITE LANDFILL | T30NR91WSEC1 |  | WY |  | INTERIOR | 103c
BLM—RIVERTON LANDFILL | T34NR96WSEC26, ½ MI E OF RIVERTON | RIVERTON | WY | 82501 | INTERIOR | 103c
BLM—SOUTH BIGHORN COUNTY LANDFILL | T52NR93WSEC20 |  | WY |  | INTERIOR | 103c
BLM—WORLAND LANDFILL | T47NR93WSEC23 | WORLAND | WY |  | INTERIOR | 103c

[FR Doc. 00-33163 Filed 12-28-00; 8:45 am]

BILLING CODE 6560-50-P